FEDERAL COMMUNICATIONS COMMISSION

47 CFR Ch. I

Unified Agenda of Federal Regulatory and Deregulatory Actions—Spring 2020

AGENCY: Federal Communications Commission.

ACTION: Semiannual regulatory agenda.

SUMMARY: Twice a year, in spring and fall, the Commission publishes in the Federal Register a list in the Unified Agenda of those major items and other significant proceedings under development or review that pertain to the Regulatory Flexibility Act (U.S.C. 602). The Unified Agenda also provides the Code of Federal Regulations citations and legal authorities that govern these proceedings. The complete Unified Agenda will be published on the internet in a searchable format at www.reginfo.gov.

ADDRESSES: Federal Communications Commission, 445 12th Street SW, Washington, DC 20554.

FOR FURTHER INFORMATION CONTACT: Maura McGowan, Telecommunications Policy Specialist, Federal Communications Commission, 445 12th Street SW, Washington, DC 20554, (202) 418-0990.

SUPPLEMENTARY INFORMATION:

Unified Agenda of Major and Other Significant Proceedings

The Commission encourages public participation in its rulemaking process. To help keep the public informed of significant rulemaking proceedings, the Commission has prepared a list of important proceedings now in progress. The General Services Administration publishes the Unified Agenda in the Federal Register in the spring and fall of each year.

The following terms may be helpful in understanding the status of the proceedings included in this report:

Docket Number—assigned to a proceeding if the Commission has issued either a Notice of Proposed Rulemaking or a Notice of Inquiry concerning the matter under consideration. The Commission has used docket numbers since January 1, 1978. Docket numbers consist of the last two digits of the calendar year in which the docket was established plus a sequential number that begins at 1 with the first docket initiated during a calendar year (e.g., Docket No. 15-1 or Docket No. 17-1). The abbreviation for the responsible bureau usually precedes the docket number, as in “MB Docket No. 17-289,” which indicates that the responsible bureau is the Media Bureau. A docket number consisting of only five digits (e.g., Docket No. 29622) indicates that the docket was established before January 1, 1978.

Notice of Inquiry (NOI)—issued by the Commission when it is seeking information on a broad subject or trying to generate ideas on a given topic. A comment period is specified during which all interested parties may submit comments.

Notice of Proposed Rulemaking (NPRM)—issued by the Commission when it is proposing a specific change to Commission rules and regulations. Before any changes are actually made, interested parties may submit written comments on the proposed revisions.

Further Notice of Proposed Rulemaking (FNPRM)—issued by the Commission when additional comment in the proceeding is sought.

Memorandum Opinion and Order (MO&O)—issued by the Commission to deny a petition for rulemaking, conclude an inquiry, modify a decision, or address a petition for reconsideration of a decision.

Rulemaking (RM) Number—assigned to a proceeding after the appropriate bureau or office has reviewed a petition for rulemaking, but before the Commission has taken action on the petition.

Report and Order (R&O)—issued by the Commission to state a new or amended rule or state that the Commission rules and regulations will not be revised.

Marlene H. Dortch,
Secretary, Federal Communications Commission.

Consumer and Govermental Affairs Bureau—Long-Term Actions
Sequence No. | Title | Regulation Identifier No.
288 | Rules and Regulations Implementing the Telephone Consumer Protection Act (TCPA) of 1991 (CG Docket No. 02-278) | 3060-AI14
289 | Rules and Regulations Implementing Section 225 of the Communications Act (Telecommunications Relay Service) (CG Docket No. 03-123) | 3060-AI15
290 | Consumer Information, Disclosure, and Truth in Billing and Billing Format (CC Docket No. 98-170; CG Docket No. 09-158; WC Docket No. 04-36) | 3060-AI61
291 | Structure and Practices of the Video Relay Service (VRS) Program (CG Docket No. 10-51) | 3060-AJ42
292 | Misuse of Internet Protocol (IP) Captioned Telephone Service; Telecommunications Relay Services and Speech-to-Speech Services; CG Docket No. 13-24 | 3060-AK01
293 | Advanced Methods to Target and Eliminate Unlawful Robocalls (CG Docket No. 17-59) | 3060-AK62

Office of Engineering and Technology—Long-Term Actions
Sequence No. | Title | Regulation Identifier No.
294 | Encouraging the Provision of New Technologies and Services to the Public (GN Docket No. 18-22) | 3060-AK80
295 | Spectrum Horizon (ET Docket No. 18-21) | 3060-AK81
296 | Use of the 5.850-5.925 GHz Band (ET Docket No. 19-138) | 3060-AK96

Office of Engineering and Technology—Completed Actions
Sequence No. | Title | Regulation Identifier No.
297 | Federal Earth Stations—Non-Federal Fixed Satellite Service Space Stations; Spectrum for Non-Federal Space Launch Operations; ET Docket No. 13-115 | 3060-AK09
298 | Authorization of Radio Frequency Equipment; ET Docket No. 13-44 | 3060-AK10
299 | Unlicensed White Space Devices (ET Docket No. 16-56) | 3060-AK46
300 | Amendment of Parts 1, 2, 15, 90, and 95 of the Commission's Rules to Permit Radar Services in the 76-81 GHz Band (ET Docket No. 15-26) | 3060-AK82

International Bureau—Long-Term Actions
Sequence No. | Title | Regulation Identifier No.
301 | International Settlements Policy Reform (IB Docket No. 11-80) | 3060-AJ77
302 | Update to Parts 2 and 25 Concerning NonGeostationary, Fixed-Satellite Service Systems, and Related Matters: IB Docket No. I6-408 | 3060-AK59
303 | Amendment of Parts 2 and 25 of the FCC Rules to Facilitate the Use of Earth Stations in Motion Communicating With Geostationary Orbit Space Stations in FSS Bands: IB Docket No. 17-95 | 3060-AK84
304 | Further Streamlining Part 25 Rules Governing Satellite Services: IB Docket No. 18-314 | 3060-AK87
305 | Streamlining Licensing Procedures for Small Satellites; IB Docket No. 18-86 | 3060-AK88
306 | Facilitating the Communications of Earth Stations in Motion With Non-Geostationary Orbit Space Stations: IB Docket No. 18-315 | 3060-AK89
307 | Mitigation of Orbital Debris in the New Space Age: IB Docket No. 18-313 | 3060-AK90

Media Bureau—Long-Term Actions
Sequence No. | Title | Regulation Identifier No.
308 | Authorizing Permissive Use of the “Next Generation” Broadcast Television Standard (GN Docket No. 16-142) | 3060-AK56
309 | Electronic Delivery of MVPD Communications (MB Docket No. 17-317) | 3060-AK70
310 | 2018 Quadrennial Regulatory Review of the Commission's Broadcast Ownership Rules (MB Docket 18-349) | 3060-AK77
311 | Children's Television Programming Rules (MB Docket 18-202) | 3060-AK78
312 | Amendment of Part 74 of the Commission's Rules Regarding FM Translator Interference (MB Docket 18-119) | 3060-AK79
313 | Equal Employment Opportunity Enforcement (MB Docket 19-177) | 3060-AK86
314 | Use of Common Antenna Site (MB Docket No. 19-282) | 3060-AK99

Office of Managing Director—Long-Term Actions
Sequence No. | Title | Regulation Identifier No.
315 | Assessment and Collection of Regulatory Fees | 3060-AK64

Public Safety and Homeland Security Bureau—Long-Term Actions
Sequence No. | Title | Regulation Identifier No.
316 | Wireless E911 Location Accuracy Requirements: PS Docket No. 07-114 | 3060-AJ52
317 | Improving Outage Reporting for Submarine Cables and Enhancing Submarine Cable Outage Data; GN Docket No. 15-206 | 3060-AK39
318 | Amendments to Part 4 of the Commission's Rules Concerning Disruptions to Communications: PS Docket No. 15-80 | 3060-AK40
319 | New Part 4 of the Commission's Rules Concerning Disruptions to Communications; ET Docket No. 04-35 | 3060-AK41
320 | Wireless Emergency Alerts (WEA): PS Docket No. 15-91 | 3060-AK54
321 | Blue Alert EAS Event Code | 3060-AK63

Wireless Telecommunications Bureau—Final Rule Stage
Sequence No. | Title | Regulation Identifier No.
322 | Expanding Flexible Use of the 3.7 to 4.2 GHz Band: GN Docket No. 18-122 | 3060-AK76

Wireless Telecommunications Bureau—Long-Term Actions
Sequence No. | Title | Regulation Identifier No.
323 | Universal Service Reform Mobility Fund (WT Docket No. 10-208) | 3060-AJ58
324 | Expanding the Economic and Innovation Opportunities of Spectrum Through Incentive Auctions (GN Docket No. 12-268) | 3060-AJ82
325 | Amendment of Parts 1, 2, 22, 24, 27, 90, and 95 of the Commission's Rules to Improve Wireless Coverage Through the Use of Signal Boosters (WT Docket No. 10-4) | 3060-AJ87
326 | Amendment of the Commission's Rules Governing Certain Aviation Ground Station Equipment (Squitter) (WT Docket Nos. 10-61 and 09-42) | 3060-AJ88
327 | Promoting Technological Solutions to Combat Wireless Contraband Device Use in Correctional Facilities; GN Docket No. 13-111 | 3060-AK06
328 | Promoting Investment in the 3550-3700 MHz Band; GN Docket No. 17-258 | 3060-AK12
329 | Use of Spectrum Bands Above 24 GHz for Mobile Services—Spectrum Frontiers: WT Docket 10-112 | 3060-AK44
330 | Transforming the 2.5 GHz Band | 3060-AK75
331 | Amendment of the Commission's Rules to Promote Aviation Safety: WT Docket No. 19-140 | 3060-AK92
332 | Establishing the Digital Opportunity Data Collection; WC Docket Nos. 19-195 and 11-10 | 3060-AK93

Wireless Telecommunications Bureau—Completed Actions
Sequence No. | Title | Regulation Identifier No.
333 | Service Rules for Advanced Wireless Services of the Middle Class Tax Relief and Job Creation Act of 2012 Related to the 1915-1920 MHz and 1995-2000 MHz Bands (WT Docket No. 12-357) | 3060-AJ86

Wireline Competition Bureau—Long-Term Actions
Sequence No. | Title | Regulation Identifier No.
334 | Numbering Resource Optimization | 3060-AH80
335 | Jurisdictional Separations | 3060-AJ06
336 | Development of Nationwide Broadband Data to Evaluate Reasonable and Timely Deployment of Advanced Services to All Americans | 3060-AJ15
337 | Local Number Portability Porting Interval and Validation Requirements (WC Docket No. 07-244) | 3060-AJ32
338 | Rural Call Completion; WC Docket No. 13-39 | 3060-AJ89
339 | Rates for Inmate Calling Services; WC Docket No. 12-375 | 3060-AK08
340 | Comprehensive Review of the Part 32 Uniform System of Accounts (WC Docket No. 14-130) | 3060-AK20
341 | Restoring Internet Freedom (WC Docket No. 17-108); Protecting and Promoting the Open Internet (GN Docket No. 14-28) | 3060-AK21
342 | Technology Transitions; GN Docket No. 13-5, WC Docket No. 05-25; Accelerating Wireline Broadband Deployment by Removing Barriers to Infrastructure Investment; WC Docket No. 17-84 | 3060-AK32
343 | Implementation of the Universal Service Portions of the 1996 Telecommunications Act | 3060-AK57
344 | Toll Free Assignment Modernization and Toll Free Service Access Codes: WC Docket No. 17-192, CC Docket No. 95-155 | 3060-AK91
345 | Call Authentication Trust Anchor | 3060-AL00
346 | Implementation of the National Suicide Improvement Act of 2018 | 3060-AL01
347 | Modernizing Unbundling and Resale Requirements in an Era of Next-Generation Networks and Services | 3060-AL02
348 | Deregulation and Detariffing of Retail Access Charges | 3060-AL03

FEDERAL COMMUNICATIONS COMMISSION (FCC)

Consumer and Governmental Affairs Bureau

Long-Term Actions

288. Rules and Regulations Implementing the Telephone Consumer Protection Act (TCPA) of 1991 (CG Docket No. 02-278)

E.O. 13771 Designation: Independent agency.

Legal Authority: 47 U.S.C. 227

Abstract: In this docket, the Commission considers rules and policies to implement the Telephone Consumer Protection Act of 1991 (TCPA). The TCPA places requirements on robocalls (calls using an automatic telephone dialing system, an autodialer, a prerecorded or, an artificial voice), telemarketing calls, and unsolicited fax advertisements.

Timetable:

Action | Date | FR Cite
NPRM | 10/08/02 | 67 FR 62667
FNPRM | 04/03/03 | 68 FR 16250
Order | 07/25/03 | 68 FR 44144
Order Effective | 08/25/03
Order on Reconsideration | 08/25/03 | 68 FR 50978
Order | 10/14/03 | 68 FR 59130
FNPRM | 03/31/04 | 69 FR 16873
Order | 10/08/04 | 69 FR 60311
Order | 10/28/04 | 69 FR 62816
Order on Reconsideration | 04/13/05 | 70 FR 19330
Order | 06/30/05 | 70 FR 37705
NPRM | 12/19/05 | 70 FR 75102
Public Notice | 04/26/06 | 71 FR 24634
Order | 05/03/06 | 71 FR 25967
NPRM | 12/14/07 | 72 FR 71099
Declaratory Ruling | 02/01/08 | 73 FR 6041
R&O | 07/14/08 | 73 FR 40183
Order on Reconsideration | 10/30/08 | 73 FR 64556
NPRM | 03/22/10 | 75 FR 13471
R&O | 06/11/12 | 77 FR 34233
Public Notice | 06/30/10 | 75 FR 34244
Public Notice (Reconsideration Petitions Filed) | 10/03/12 | 77 FR 60343
Announcement of Effective Date | 10/16/12 | 77 FR 63240
Opposition End Date | 10/18/12
Rule Corrections | 11/08/12 | 77 FR 66935
Declaratory Ruling (release date) | 11/29/12
Declaratory Ruling (release date) | 05/09/13
Declaratory Ruling and Order | 10/09/15 | 80 FR 61129
NPRM | 05/20/16 | 81 FR 31889
Declaratory Ruling | 07/05/16
R&O | 11/16/16 | 81 FR 80594
Declaratory Ruling | 12/06/19
Declaratory Ruling | 12/09/19
Next Action Undetermined

Regulatory Flexibility Analysis Required: Yes.

Agency Contact: Kristi Thornton, Associate Division Chief, Federal Communications Commission, 445 12th Street SW, Washington, DC 20554, Phone: 202 418-2467, Email: kristi.thornton@fcc.gov.

RIN: 3060-AI14

289. Rules and Regulations Implementing Section 225 of the Communications Act (Telecommunications Relay Service) (CG Docket No. 03-123)

E.O. 13771 Designation: Independent agency.

Legal Authority: 47 U.S.C. 151; 47 U.S.C. 154; 47 U.S.C. 225

Abstract: This proceeding continues the Commission's inquiry into improving the quality of telecommunications relay service (TRS) and furthering the goal of functional equivalency, consistent with Congress' mandate that TRS regulations encourage the use of existing technology and not discourage or impair the development of new technology. In this docket, the Commission explores ways to improve emergency preparedness for TRS facilities and services, new TRS technologies, public access to information and outreach, and issues related to payments from the Interstate TRS Fund.

Timetable:

Action | Date | FR Cite
NPRM | 08/25/03 | 68 FR 50993
R&O, Order on Reconsideration | 09/01/04 | 69 FR 53346
FNPRM | 09/01/04 | 69 FR 53382
Public Notice | 02/17/05 | 70 FR 8034
Declaratory Ruling/Interpretation | 02/25/05 | 70 FR 9239
Public Notice | 03/07/05 | 70 FR 10930
Order | 03/23/05 | 70 FR 14568
Public Notice/Announcement of Date | 04/06/05 | 70 FR 17334
Order | 07/01/05 | 70 FR 38134
Order on Reconsideration | 08/31/05 | 70 FR 51643
R&O | 08/31/05 | 70 FR 51649
Order | 09/14/05 | 70 FR 54294
Order | 09/14/05 | 70 FR 54298
Public Notice | 10/12/05 | 70 FR 59346
R&O/Order on Reconsideration | 12/23/05 | 70 FR 76208
Order | 12/28/05 | 70 FR 76712
Order | 12/29/05 | 70 FR 77052
NPRM | 02/01/06 | 71 FR 5221
Declaratory Ruling/Clarification | 05/31/06 | 71 FR 30818
FNPRM | 05/31/06 | 71 FR 30848
FNPRM | 06/01/06 | 71 FR 31131
Declaratory Ruling/Dismissal of Petition | 06/21/06 | 71 FR 35553
Clarification | 06/28/06 | 71 FR 36690
Declaratory Ruling on Reconsideration | 07/06/06 | 71 FR 38268
Order on Reconsideration | 08/16/06 | 71 FR 47141
MO&O | 08/16/06 | 71 FR 47145
Clarification | 08/23/06 | 71 FR 49380
FNPRM | 09/13/06 | 71 FR 54009
Final Rule; Clarification | 02/14/07 | 72 FR 6960
Order | 03/14/07 | 72 FR 11789
R&O | 08/06/07 | 72 FR 43546
Public Notice | 08/16/07 | 72 FR 46060
Order | 11/01/07 | 72 FR 61813
Public Notice | 01/04/08 | 73 FR 863
R&O/Declaratory Ruling | 01/17/08 | 73 FR 3197
Order | 02/19/08 | 73 FR 9031
Order | 04/21/08 | 73 FR 21347
R&O | 04/21/08 | 73 FR 21252
Order | 04/23/08 | 73 FR 21843
Public Notice | 04/30/08 | 73 FR 23361
Order | 05/15/08 | 73 FR 28057
Declaratory Ruling | 07/08/08 | 73 FR 38928
FNPRM | 07/18/08 | 73 FR 41307
R&O | 07/18/08 | 73 FR 41286
Public Notice | 08/01/08 | 73 FR 45006
Public Notice | 08/05/08 | 73 FR 45354
Public Notice | 10/10/08 | 73 FR 60172
Order | 10/23/08 | 73 FR 63078
2nd R&O and Order on Reconsideration | 12/30/08 | 73 FR 79683
Order | 05/06/09 | 74 FR 20892
Public Notice | 05/07/09 | 74 FR 21364
NPRM | 05/21/09 | 74 FR 23815
Public Notice | 05/21/09 | 74 FR 23859
Public Notice | 06/12/09 | 74 FR 28046
Order | 07/29/09 | 74 FR 37624
Public Notice | 08/07/09 | 74 FR 39699
Order | 09/18/09 | 74 FR 47894
Order | 10/26/09 | 74 FR 54913
Public Notice | 05/12/10 | 75 FR 26701
Order Denying Stay Motion (Release Date) | 07/09/10 |
Order | 08/13/10 | 75 FR 49491
Order | 09/03/10 | 75 FR 54040
NPRM | 11/02/10 | 75 FR 67333
NPRM | 05/02/11 | 76 FR 24442
Order | 07/25/11 | 76 FR 44326
Final Rule (Order) | 09/27/11 | 76 FR 59551
Final Rule; Announcement of Effective Date | 11/22/11 | 76 FR 72124
Proposed Rule (Public Notice) | 02/28/12 | 77 FR 11997
Proposed Rule (FNPRM) | 02/01/12 | 77 FR 4948
First R&O | 07/25/12 | 77 FR 43538
Public Notice | 10/29/12 | 77 FR 65526
Order on Reconsideration | 12/26/12 | 77 FR 75894
Order | 02/05/13 | 78 FR 8030
Order (Interim Rule) | 02/05/13 | 78 FR 8032
NPRM | 02/05/13 | 78 FR 8090
Announcement of Effective Date | 03/07/13 | 78 FR 14701
NPRM Comment Period End | 03/13/13
FNPRM | 07/05/13 | 78 FR 40407
FNPRM Comment Period End | 09/18/13
R&O | 07/05/13 | 78 FR 40582
R&O | 08/15/13 | 78 FR 49693
FNPRM | 08/15/13 | 78 FR 49717
FNPRM Comment Period End | 09/30/13
R&O | 08/30/13 | 78 FR 53684
FNPRM | 09/03/13 | 78 FR 54201
NPRM | 10/23/13 | 78FR 63152
FNPRM Comment Period End | 11/18/13
Petiton for Reconsideration; Request for Comment | 12/16/13 | 78 FR 76096
Petition for Reconsideration; Request for Comment | 12/16/13 | 78 FR 76097
Request for Clarification; Request for Comment; Correction | 12/30/13 | 78 FR 79362
Petition for Reconsideration Comment Period End | 01/10/14
NPRM Comment Period End | 01/21/14
Announcement of Effective Date | 07/11/14 | 79 FR 40003
Announcement of Effective Date | 08/28/14 | 79 FR 51446
Correction—Announcement of Effective Date | 08/28/14 | 79 FR 51450
Technical Amendments | 09/09/14 | 79 FR 53303
Public Notice | 09/15/14 | 79 FR 54979
R&O and Order | 10/21/14 | 79 FR 62875
FNPRM | 10/21/14 | 79 FR 62935
FNPRM Comment Period End | 12/22/14
Final Action (Announcement of Effective Date) | 10/30/14 | 79 FR 64515
Final Rule Effective | 10/30/14
FNPRM | 11/08/15 | 80 FR 72029
FNPRM Comment Period End | 01/01/16
Public Notice | 01/20/16 | 81 FR 3085
Public Notice Comment Period End | 02/16/16
R&O | 03/21/16 | 81 FR 14984
FNPRM | 08/24/16 | 81 FR 57851
FNPRM Comment Period End | 09/14/16
NOI and FNPRM | 04/12/17 | 82 FR 17613
NOI and FNPRM Comment Period End | 05/30/17
R&O | 04/13/17 | 82 FR 17754
R&O | 04/27/17 | 82 FR 19322
FNPRM | 04/27/17 | 82 FR 19347
FNPRM Comment Period End | 07/11/17
R&O | 06/23/17 | 82 FR 28566
Public Notice | 07/21/17 | 82 FR 33856
Public Notice—Correction | 07/25/17 | 82 FR 34471
Public Notice Comment Period End | 07/31/17
Public Notice—Correction Comment Period End | 08/17/17
R&O | 08/22/17 | 82 FR 39673
Announcement of Effective Date | 10/17/17 | 82 FR 48203
Public Notice; Petition for Reconsideration | 10/25/17 | 82 FR 49303
Oppositions Due Date | 11/20/17
R&O and Declaratory Ruling | 06/27/18 | 83 FR 30082
FNPRM | 07/18/18 | 83 FR 33899
FNPRM Comment Period End | 11/15/18
Public Notice | 08/23/18 | 83 FR 42630
Public Notice Opposition Period End | 09/17/18
Announcement of Effective Date | 02/04/19 | 84 FR 1409
R&O | 03/08/19 | 84 FR 8457
FNPRM | 03/14/19 | 84 FR 9276
FNPRM Comment Period End | 04/29/19
R&O | 06/06/19 | 84 FR 26364
FNPRM | 06/06/19 | 84 FR 26379
Petition for Recon Request for Comment | 06/18/19 | 84 FR 28264
Petition for Recon Comment Period End | 07/15/19
FNPRM Comment Period End | 08/05/19
R&O | 01/06/20 | 85 FR 462
R&O | 01/09/20 | 85 FR 1125
NPRM | 01/09/20 | 85 FR 1134
NPRM Comment Period End | 02/13/20
Announcement of Effective Date | 02/19/20 | 85 FR 9392
Next Action Undetermined

Regulatory Flexibility Analysis Required: Yes.

Agency Contact: Eliot Greenwald, Deputy Chief, Disability Rights Office, Federal Communications Commission, 445 12th Street SW, Washington, DC 20554, Phone: 202 418-2235, Email: eliot.greenwald@fcc.gov.

RIN: 3060-AI15

290. Consumer Information, Disclosure, and Truth in Billing and Billing Format (CC Docket No. 98-170; CG Docket No. 09-158; WC Docket No. 04-36)

E.O. 13771 Designation: Independent agency.

Legal Authority: 47 U.S.C. 201; 47 U.S.C. 258

Abstract: In these dockets, the Commission examines issues concerning consumer confusion related to billing for telecommunications services. It has considered and adopted rules and policies ensuring truth-in-billing and addressing “cramming,” the unlawful placement of unauthorized charges on a telephone bill.

Timetable:

Action | Date | FR Cite
FNPRM | 05/25/05 | 70 FR 30044
R&O | 05/25/05 | 70 FR 29979
NOI | 08/28/09
Public Notice | 05/20/10 | 75 FR 28249
Public Notice | 06/11/10 | 75 FR 33303
NPRM | 11/26/10 | 75 FR 72773
NPRM | 08/23/11 | 76 FR 52625
NPRM Comment Period End | 11/21/11
Order (Reply Comment Period Extended) | 11/30/11 | 76 FR 74017
Reply Comment Period End | 12/05/11
R&O | 05/24/12 | 77 FR 30915
FNPRM | 05/24/12 | 77 FR 30972
FNPRM Comment Period End | 07/09/12
Order (Comment Period Extended) | 07/17/12 | 77 FR 41955
Comment Period End | 07/20/12
Announcement of Effective Dates | 10/26/12 | 77 FR 65230
Correction of Final Rule | 11/30/12 | 77 FR 71353
Correction of Final Rule | 11/30/12 | 77 FR 71354
NPRM | 08/14/17 | 82 FR 37830
NPRM Comment Period End | 09/13/17
Public Notice | 01/13/20 | 85 FR 1798
Next Action Undetermined

Regulatory Flexibility Analysis Required: Yes.

Agency Contact: Erica McMahon, Attorney Advisor, Federal Communications Commission, Consumer and Governmental Affairs Bureau, 445 12th Street SW, Washington, DC 20554, Phone: 202 418-0346, Email: erica.mcmahon@fcc.gov.

RIN: 3060-AI61

291. Structure and Practices of the Video Relay Service (VRS) Program (CG Docket No. 10-51)

E.O. 13771 Designation: Independent agency.

Legal Authority: 47 U.S.C. 151; 47 U.S.C. 154; 47 U.S.C. 225; 47 U.S.C. 303(r)

Abstract: The Commission takes a fresh look at its VRS rules to ensure that it is available to and used by the full spectrum of eligible users, encourages innovation, and is provided efficiently to be less susceptible to the waste, fraud, and abuse that have plagued the program and threatened its long-term viability. The Commission also considers the most effective and efficient way to make VRS available and to determine what is the most fair, efficient, and transparent cost-recovery methodology. In addition, the Commission looks at various ways to measure the quality of VRS so as to ensure a better consumer experience.

Timetable:

Action | Date | FR Cite
Declaratory Ruling | 05/07/10 | 75 FR 25255
Declaratory Ruling | 07/13/10 | 75 FR 39945
Order | 07/13/10 | 75 FR 39859
Notice of Inquiry | 07/19/10 | 75 FR 41863
NPRM | 08/23/10 | 75 FR 51735
Interim Final Rule | 02/15/11 | 76 FR 8659
Public Notice | 03/02/11 | 76 R 11462
R&O | 05/02/11 | 76 FR 24393
FNPRM | 05/02/11 | 76 FR 24437
NPRM | 05/02/11 | 76 FR 24442
R&O (Correction) | 05/27/11 | 76 FR 30841
Order | 07/25/11 | 76 FR 44326
2nd R&O | 08/05/11 | 76 FR 47469
Order (Interim Final Rule) | 08/05/11 | 76 FR 47476
Final Rule; Announcement of Effective Date | 09/26/11 | 76 FR 59269
Final Rule; Petition for Reconsideration; Public Notice | 09/27/11 | 76 FR 59557
Oppositions Due Date | 10/07/11 |
Final Rule; Clarification (MO&O) | 10/31/11 | 76 FR 67070
FNPRM | 10/31/11 | 76 FR 67118
Interim Final Rule; Announcement of Effective Date | 11/03/11 | 76 FR 68116
Final Rule; Announcement of Effective Date | 11/04/11 | 76 FR 68328
Final Rule; Announcement of Effective Date | 11/07/11 | 76 FR 68642
FNPRM Comment Period End | 12/30/11
FNPRM | 02/01/12 | 77 FR 4948
FNPRM Comment Period End | 03/19/12
Final Rule; Correction | 03/27/12 | 77 FR 18106
Correcting Amendments | 06/07/12 | 77 FR 33662
Order (Release Date) | 07/25/12
Correcting Amendments | 10/04/12 | 77 FR 60630
Public Notice | 10/29/12 | 77 FR 65526
Comment Period End | 11/29/12
FNPRM | 07/05/13 | 78 FR 40407
R&O | 07/05/13 | 78 FR 40582
FNPRM Comment Period End | 09/18/13
Public Notice | 09/11/13 | 78 FR 55696
Public Notice | 09/15/14 | 79 FR 54979
Comment Period End | 10/10/14
Final Action (Announcement of Effective Date) | 10/30/14 | 79 FR 64515
Final Rule Effective | 10/30/14
FNPRM | 11/18/15 | 80 FR 72029
FNPRM Comment Period End | 02/01/16
R&O | 03/21/16 | 81 FR 14984
FNPRM | 08/24/16 | 81 FR 57851
FNPRM Comment Period End | 09/14/16
NOI and FNPRM | 04/12/17 | 82 FR 17613
NOI and FNPRM Comment Period End | 05/30/17
R&O | 04/13/17 | 82 FR 17754
R&O | 04/27/17 | 82 FR 19322
FNPRM | 04/27/17 | 82 FR 19347
FNPRM Comment Period End | 07/01/17
Order | 06/23/17 | 82 FR 28566
Public Notice | 07/21/17 | 82 FR 33856
Public Notice Comment Period End | 07/31/17
Public Notice Correction | 07/25/17 | 82 FR 34471
Public Notice Correction Comment Period End | 08/17/17
R&O and Order | 08/22/17 | 82 FR 39673
Announcement of Effective Date | 10/17/17 | 82 FR 48203
Public Notice; Petition for Reconsideration | 10/25/17 | 82 FR 49303
Oppositions Due Date | 11/20/17
R&O | 06/06/19 | 84 FR 26364
FNPRM | 06/06/19 | 84 FR 26379
FNPRM Comment Period End | 08/05/19
Next Action Undetermined

Regulatory Flexibility Analysis Required: Yes.

Agency Contact: Eliot Greenwald, Deputy Chief, Disability Rights Office, Federal Communications Commission, 445 12th Street SW, Washington, DC 20554, Phone: 202 418-2235, Email: eliot.greenwald@fcc.gov.

RIN: 3060-AJ42

292. Misuse of Internet Protocol (IP) Captioned Telephone Service; Telecommunications Relay Services and Speech-to-Speech Services; CG Docket No. 13-24

E.O. 13771 Designation: Independent agency.

Legal Authority: 47 U.S.C. 151; 47 U.S.C. 154; 47 U.S.C. 225

Abstract: The Federal Communications Commission (FCC) initiated this proceeding in its effort to ensure that Internet-Protocol Captioned Telephone Service (IP CTS) is provided effectively and in the most efficient manner. In doing so, the FCC adopted rules to address certain practices related to the provision and marketing of IP CTS, as well as compensation of TRS providers. IP CTS is a form of relay service designed to allow people with hearing loss to speak directly to another party on a telephone call and to simultaneously listen to the other party and read captions of what that party is saying over an IP-enabled device. To ensure that IP CTS is provided efficiently to persons who need to use this service, the Commission adopted rules establishing several requirements and issued an FNPRM to address additional issues.

Timetable:

Action | Date | FR Cite
NPRM | 02/05/13 | 78 FR 8090
Order (Interim Rule) | 02/05/13 | 78 FR 8032
Order | 02/05/13 | 78 FR 8030
Announcement of Effective Date | 03/07/13 | 78 FR 14701
NPRM Comment Period End | 03/12/13
R&O | 08/30/13 | 78 FR 53684
FNPRM | 09/03/13 | 78 FR 54201
FNPRM Comment Period End | 11/18/13
Petition for Reconsideration Request for Comment | 12/16/13 | 78 FR 76097
Petiton for Reconsideration Comment Period End | 01/10/14
Announcement of Effective Date | 07/11/14 | 79 FR 40003
Announcement of Effective Date | 08/28/14 | 79 FR 51446
Correction—Announcement of Effective Date | 08/28/14 | 79 FR 51450
Technical Amendments | 09/09/14 | 79 FR 53303
R&O and Declaratory Ruling | 06/27/18 | 83 FR 30082
FNPRM | 07/18/18 | 83 FR 33899
Public Notice | 08/23/18 | 83 FR 42630
Public Notice Opposition Period End | 09/17/18
FNPRM Comment Period End | 11/15/18
Announcement of Effective Date | 02/04/19 | 84 FR 1409
R&O | 03/08/19 | 84 FR 8457
FNPRM | 03/14/19 | 84 FR 9276
FNPRM Comment Period End | 04/29/19
Petition for Recon Request for Comment | 06/18/19 | 84 FR 28264
Petition for Recon Comment Period End | 07/15/19
R&O | 01/06/20 | 85 FR 462
Announcement of Effective Date | 02/19/20 | 85 FR 9392
Next Action Undetermined

Regulatory Flexibility Analysis Required: Yes.

Agency Contact: Eliot Greenwald, Deputy Chief, Disability Rights Office, Federal Communications Commission, 445 12th Street SW, Washington, DC 20554, Phone: 202 418-2235, Email: eliot.greenwald@fcc.gov.

RIN: 3060-AK01

293. Advanced Methods To Target and Eliminate Unlawful Robocalls (CG Docket No. 17-59)

E.O. 13771 Designation: Independent agency.

Legal Authority: 47 U.S.C. 201 and 202; 47 U.S.C. 227; 47 U.S.C. 251(e)

Abstract: The Telephone Consumer Protection Act of 1991 restricts the use of robocalls autodialed or prerecorded calls in certain instances. In CG Docket No. 17-59, the Commission considers rules and policies aimed at eliminating unlawful robocalling. Among the issues it examines in this docket are whether to allow carriers to block calls that purport to be from unallocated or unassigned phone numbers through the use of spoofing, whether to allow carriers to block calls based on their own analyses of which calls are likely to be unlawful and whether to establish a database of reassigned phone numbers to help prevent robocalls to consumers, who did not consent to such calls.

Timetable:

Action | Date | FR Cite
NPRM/NOI | 05/17/17 | 82 FR 22625
2nd NOI | 07/13/17
NPRM Comment Period End | 07/31/17
FNPRM | 01/08/18 | 83 FR 770
R&O | 01/12/18 | 83 FR 1566
2nd FNPRM | 04/23/18 | 83 FR 17631
2nd FNPRM Comment Period End | 06/07/18
2nd FNPRM Reply Comment Period End | 07/09/18
2nd R&O | 03/26/19 | 84 FR 11226
3rd FNPRM | 06/24/19 | 84 FR 29478
Declaratory Ruling | 06/24/19 | 84 FR 29387
Next Action Undetermined

Regulatory Flexibility Analysis Required: Yes.

Agency Contact: Josh Zeldis, Attorney Advisor, Federal Communications Commission, 445 12th Street SW, Washington, DC 20554, Phone: 202 418-0715, Email: josh.zeldis@fcc.gov.

Karen Schroeder, Attorney Advisor, Federal Communications Commission, 445 12th Street SW, Washington, DC 20554, Phone: 202 418-0654, Email: karen.schroeder@fcc.gov.

Jerusha Burnett, Attorney Advisor, Federal Communications Commission, 445 12th Street SW, Washington, DC 20554, Phone: 202 418-0526, Email: jerusha.burnett@fcc.gov.

RIN: 3060-AK62

FEDERAL COMMUNICATIONS COMMISSION (FCC)

Office of Engineering and Technology

Long-Term Actions

294. Encouraging the Provision of New Technologies and Services to the Public (GN Docket No. 18-22)

E.O. 13771 Designation: Independent agency.

Legal Authority: 47 U.S.C. 151; 47 U.S.C. 154(i); 47 U.S.C. 154(3)

Abstract: In this proceeding, the FCC seeks to establish rules describing guidelines and procedures to implement the stated policy goal of section 7 to encourage the provision of new technologies and services to the public. Although the forces of competition and technological growth work together to enable the development and deployment of many new technologies and services to the public, the Commission has at times been slow to identify and take action to ensure that important new technologies or services are made available as quickly as possible. The Commission has sought to overcome these impediments by streamlining many of its processes but all too often regulatory delays can adversely impact newly proposed technologies or services.

Timetable:

Action | Date | FR Cite
NPRM | 04/04/18 | 83 FR 14395
Comment Period End | 05/04/18
Next Action Undetermined

Regulatory Flexibility Analysis Required: Yes.

Agency Contact: Paul Murray, Attorney Advisor, Federal Communications Commission, Office of Engineering and Technology, 445 12th Street SW, Washington, DC 20554, Phone: 202 418-0688, Fax: 202 418-7447, Email: paul.murray@fcc.gov.

RIN: 3060-AK80

295. Spectrum Horizon (ET Docket No. 18-21)

E.O. 13771 Designation: Independent agency.

Legal Authority: 47 U.S.C. 151 and 152; 47 U.S.C. 154; 47 U.S.C. 157; 47 U.S.C. 201; 47 U.S.C. 301; 47 U.S.C. 302(a); 47 U.S.C. 303; 47 U.S.C. 307; 47 U.S.C. 310; 47 U.S.C. 332; sec. 76 of 1996 Telecom Act, as amended, 47 U.S.C. 302 and sec. 1.411

Abstract: In this proceeding, the FCC seeks to implement a plan to make the spectrum above 95 GHz more readily accessible for new innovative services and technologies. Throughout its history, when the Commission has expanded access to what was thought to be the upper reaches of the usable spectrum, new technological advances have emerged to push the boundary of usable spectrum even further. The frequencies above 95 GHz are today's spectrum horizons. The Notice sought comment on proposed rules to permit licensed fixed point-to-point operations in a total of 102.2 gigahertz of spectrum; on making 15.2 gigahertz of spectrum available for unlicensed use; and on creating a new category of experimental licenses to increase opportunities for entities to develop new services and technologies from 95 GHz to 3 THz with no limits on geography or technology.

Timetable:

Action | Date | FR Cite
NPRM | 04/02/18 | 83 FR 13888
ANPRM Comment Period End | 05/02/18
R&O | 06/14/19 | 84 FR 25685
Next Action Undetermined

Regulatory Flexibility Analysis Required: Yes.

Agency Contact: Michael Ha, Deputy Division Chief, Federal Communications Commission, 445 12th Street SW, Washington, DC 20554, Phone: 201 418-2099, Email: michael.ha@fcc.gov.

RIN: 3060-AK81

296. • Use of the 5.850-5.925 GHz Band (ET Docket No. 19-138)

E.O. 13771 Designation: Independent agency.

Legal Authority: 47 U.S.C. 1; 47 U.S.C. 4(i); 47 U.S.C. 301; 47 U.S.C. 302; 47 U.S.C. 303; 47 U.S.C. 316; 47 U.S.C. 332; 47 CFR 1.411

Abstract: In this proceeding, the Commission proposes to amend its rules for the 5.850-5.925 GHz (5.9 GHz) band. The proposal would permit unlicensed devices to operate in the lower 45-megahertz portion of the band at 5.850-5.895 GHz under part 15 of the Commission's rules. It would also permit Intelligent Transportation System (ITS) operations in the upper 30-megahertz portion of the band at 5.895-5.925 GHz under parts 90 and 95 of the Commission's rules. ITS operations would consist of Cellular Vehicle to Everything (C-V2X) devices at 5.905-5.925 GHz, and C-V2X and/or Dedicated Short Range Communications (DSRC) devices at 5.895-5.905 GHz.

Timetable:

Action | Date | FR Cite
NPRM | 02/06/20 | 85 FR 6841
NPRM Comment Period End | 03/09/20
Next Action Undetermined

Regulatory Flexibility Analysis Required: Yes.

Agency Contact: Howard Griboff, Attorney Advisor, Federal Communications Commission, Office of Engineering and Technology, 445 12th Street SW, Washington, DC 20554, Phone: 202 418-0657, Fax: 202 418-2824, Email: howard.griboff@fcc.gov.

RIN: 3060-AK96

FEDERAL COMMUNICATIONS COMMISSION (FCC)

Office of Engineering and Technology

Completed Actions

297. Federal Earth Station—Non-Federal Fixed Satellite Service Space Stations; Spectrum for Non-Federal Space Launch Operations; ET Docket No. 13-115

E.O. 13771 Designation: Independent agency.

Legal Authority: 47 U.S.C. 154; 47 U.S.C. 302(a); 47 U.S.C. 303; 47 U.S.C. 336

Abstract: The Notice of Proposed Rulemaking proposes to make spectrum allocation proposals for three different space-related purposes. The Commission makes two alternative proposals to modify the Allocation Table to provide interference protection for Fixed-Satellite Service (FSS) and Mobile-Satellite Service (MSS) earth stations operated by Federal agencies under authorizations granted by the National Telecommunications and Information Administration (NTIA) in certain frequency bands. The Commission also proposes to amend a footnote to the Allocation Table to permit a Federal MSS system to operate in the 399.9 to 400.05 MHz band; it also makes alternative proposals to modify the Allocation Table to provide access to spectrum on an interference protected basis to Commission licensees for use during the launch of launch vehicles (i.e., rockets). The Commission also seeks comment broadly on the future spectrum needs of the commercial space sector. The Commission expects that, if adopted, these proposals would advance the commercial space industry and the important role it will play in our Nation's economy and technological innovation now and in the future.

Timetable:

Action | Date | FR Cite
NPRM | 07/01/13 | 78 FR 39200
Resolution of NOI, 2nd R&O, NPRM, and MO&O (release date) | 12/04/19
Next Action Undetermined

Regulatory Flexibility Analysis Required: Yes.

Agency Contact: Nicholas Oros, Electronics Engineer, Federal Communications Commission, 445 12th Street SW, Washington, DC 20554, Phone: 202 418-0636, Email: nicholas.oros@fcc.gov.

RIN: 3060-AK09

298. Authorization of Radio Frequency Equipment; ET Docket No. 13-44

E.O. 13771 Designation: Independent agency.

Legal Authority: 47 U.S.C. 151; 47 U.S.C. 154(i); 47 U.S.C. 157(a); 47 U.S.C. 301; 47 U.S.C. 303(f); 47 U.S.C. 303(g); 47 U.S.C. 303(r); 47 U.S.C. 307(e); 47 U.S.C. 332

Abstract: The Commission is responsible for an equipment authorization program for radio frequency (RF) devices under part 2 of its rules. This program is one of the primary means that the Commission uses to ensure that the multitude of RF devices used in the United States operate effectively without causing harmful interference and otherwise comply with the Commission rules. All RF devices subject to equipment authorization must comply with the Commission's technical requirement before they can be imported or marketed. The Commission or a Telecommunication Certification Body (TCB) must approve some of these devices before they can be imported or marketed, while others do not require such approval. The Commission last comprehensively reviewed its equipment authorization program more than 10 years ago. The rapid innovation in equipment design since that time has led to ever-accelerating growth in the number of parties applying for equipment approval. The Commission therefore believes that the time is now right for us to comprehensively review our equipment authorization processes to ensure that they continue to enable this growth and innovation in the wireless equipment market. In May 2012, the Commission began this reform process by issuing an Order to increase the supply of available grantee codes. With this Notice of Proposed Rulemaking (NPRM), the Commission continues its work to review and reform the equipment authorization processes and rules. This Notice of Proposed Rulemaking proposes certain changes to the Commission's part 2 equipment authorization processes to ensure that they continue to operate efficiently and effectively. In particular, it addresses the role of TCBs in certifying RF equipment and post-market surveillance, as well as the Commission's role in assessing TCB performance. The NPRM also addressed the role of test laboratories in the RF equipment approval process, including accreditation of test labs and the Commission's recognition of laboratory accreditation bodies, and measurement procedures used to determine RF equipment compliance. Finally, it proposes certain modifications to the rules regarding TCBs that approve terminal equipment under part 68 of the rules that are consistent with our proposed modifications to the rules for TCBs that approve RF equipment. Specifically, the Commission proposes to recognize the National Institute for Standards and Technology (NIST) as the organization that designates TCBs in the United States and to modify the rules to reference the current International Organization for Standardization and International Electrotechnical Commission (ISO/IEC) guides used to accredit TCBs.

This Report and Order updates the Commission's radiofrequency (RF) equipment authorization program to build on the success realized by its use of Commission-recognized Telecommunications Certification Bodies (TCBs). The rules the Commission is adopting will facilitate the continued rapid introduction of new and innovative products to the market while ensuring that these products do not cause harmful interference to each other or to other communications devices and services.

Timetable:

Action | Date | FR Cite
NPRM | 05/03/13 | 78 FR 25916
R&O | 06/12/15 | 80 FR 33425
Memorandum, Opinion & Order | 06/29/16 | 81 FR 42264

Regulatory Flexibility Analysis Required: Yes.

Agency Contact: Hugh Van Tuyl, Electronics Engineer, Federal Communications Commission, Office of Engineering and Technology, 445 12th Street SW, Washington, DC 20554, Phone: 202 418-7506, Fax: 202 418-1944, Email: hugh.vantuyl@fcc.gov.

RIN: 3060-AK10

299. Unlicensed White Space Devices (ET Docket No. 16-56)

E.O. 13771 Designation: Independent agency.

Legal Authority: 47 U.S.C. 151; 47 U.S.C. 154(i); 47 U.S.C. 157(a); 47 U.S.C. 302(a); 47 U.S.C. 303(F); 47 U.S.C. 303(R)

Abstract: In this proceeding, the Commission amends part 15 subpart H of its rules to improve the quality of the geographic location and other data submitted for fixed white space devices operating on unused frequencies in the TV bands and, in the future, the new 600 MHz band for wireless services (600 MHz band). The rules are designed to improve the integrity of the white space database system and, as white space device deployments grow, to increase the confidence of all spectrum users of these frequency bands that the white space geolocation/database spectrum management scheme fully protects licensees and other authorized users. The rules eliminate the professional installer option for fixed white space devices and require that each fixed white space device incorporate a geo-location capability to determine its location. The proceeding also proposes options to accommodate fixed white space device installations in locations where an internal geo-location capability is not able to provide this information. Further, we clarify and modify other rules regarding fixed white space device registration to ensure the integrity of the information provided by white space device users.

Timetable:

Action | Date | FR Cite
NPRM | 03/22/16 | 81 FR 15210
NPRM Comment Period End | 05/16/16
R&O | 07/19/19 | 84 FR 34792

Regulatory Flexibility Analysis Required: Yes.

Agency Contact: Hugh Van Tuyl, Electronics Engineer, Federal Communications Commission, Office of Engineering and Technology, 445 12th Street SW, Washington, DC 20554, Phone: 202 418-7506, Fax: 202 418-1944, Email: hugh.vantuyl@fcc.gov.

RIN: 3060-AK46

300. Amendment of Parts 1, 2, 15, 90, and 95 of the Commission's Rules To Permit Radar Services in the 76-81 GHz Band (ET Docket No. 15-26)

E.O. 13771 Designation: Independent agency.

Legal Authority: 47 U.S.C. 151 and 152; 47 U.S.C. 154(i); 47 U.S.C. 301; 47 U.S.C. 302(a); 47 U.S.C. 303(f)

Abstract: In this Report and Order, the FCC establishes a flexible and streamlined regulatory framework for radar applications that will operate within the 76-81 GHz band. Specifically, the FCC give vehicular radars and certain airport-based radars protection from harmful interference as well as a contiguous five gigahertz allocation, facilitating the development and deployment of new safety devices. Doing so also harmonizes FCC rules with international efforts to create a global allocation for vehicular radars, while promoting efficient use of spectrum by consolidating such radars into a single band. In addition, the FCC established a comprehensive and consistent set of rules and policies to govern the operation of vehicular radars and certain airport-based radars in the 76-81 GHz band.

Timetable:

Action | Date | FR Cite
NPRM | 03/06/15 | 80 FR 12120
NPRM Comment Period End | 04/06/15
R&O | 09/20/17 | 82 FR 43865

Regulatory Flexibility Analysis Required: Yes.

Agency Contact: Howard Griboff, Attorney Advisor, Federal Communications Commission, Office of Engineering and Technology, 445 12th Street SW, Washington, DC 20554, Phone: 202 418-0657, Fax: 202 418-2824, Email: howard.griboff@fcc.gov.

RIN: 3060-AK82

FEDERAL COMMUNICATIONS COMMISSION (FCC)

International Bureau

Long-Term Actions

301. International Settlements Policy Reform (IB Docket No. 11-80)

E.O. 13771 Designation: Independent agency.

Legal Authority: 47 U.S.C. 151 to 152; 47 U.S.C. 154; 47 U.S.C. 201 to 205; 47 U.S.C. 208; 47 U.S.C. 211; 47 U.S.C. 214; 47 U.S.C. 303(r); 47 U.S.C. 309; 47 U.S.C. 403

Abstract: The FCC is reviewing the International Settlements Policy (ISP). It governs the ways U.S. carriers negotiate with foreign carriers for the exchange of international traffic and is the structure by which the Commission has sought to respond to concerns that foreign carriers with market power are able to take advantage of the presence of multiple U.S. carriers serving a particular market. In 2011, the FCC released an NPRM that proposed to further deregulate the international telephony market and enable U.S. consumers to enjoy competitive prices when they make calls to international destinations. First, it proposed to remove the ISP from all international routes except Cuba. Second, the FCC sought comment on a proposal to enable the Commission to better protect U.S. consumers from the effects of anticompetitive conduct by foreign carriers in instances necessitating Commission intervention. In 2012, the FCC adopted a Report and Order that eliminated the ISP on all routes but maintained the nondiscrimination requirement of the ISP on the U.S.-Cuba route and codified it in 47 CFR 63.22(f). In the Report and Order, the FCC also adopted measures to protect U.S. consumers from anticompetitive conduct by foreign carriers. In 2016, the FCC released an FNPRM seeking comment on removing the discrimination requirement on the U.S.-Cuba route.

Timetable:

Action | Date | FR Cite
NPRM | 05/13/11 | 76 FR 42625
NPRM Comment Period End | 09/02/11
Report and Order | 02/15/13 | 78 FR 11109
FNPRM | 03/04/16 | 81 FR 11500
FNPRM Comment Period End | 04/18/16
Next Action Undetermined

Regulatory Flexibility Analysis Required: Yes.

Agency Contact: David Krech, Assoc. Chief, Telecommunications & Analysis Division, Federal Communications Commission, International Bureau, 445 12th Street SW, Washington, DC 20554, Phone: 202 418-7443, Fax: 202 418-2824, Email: david.krech@fcc.gov.

RIN: 3060-AJ77

302. Update to Parts 2 and 25 Concerning Nongeostationary, Fixed-Satellite Service Systems, and Related Matters: IB Docket No. I6-408

E.O. 13771 Designation: Independent agency.

Legal Authority: 47 U.S.C. 154(i); 47 U.S.C. 303; 47 U.S.C. 316

Abstract: On January 11, 2017, the Commission began a rulemaking to update its rules and policies concerning non-geostationary-satellite orbit (NGSO), fixed-satellite service (FSS) systems and related matters. The proposed changes would, among other things, provide for more flexible use of the 17.8-20.2 GHz bands for FSS, promote shared use of spectrum among NGSO FSS satellite systems, and remove unnecessary design restrictions on NGSO FSS systems. The Commission subsequently adopted a Report and Order establishing new sharing criteria among NGSO FSS systems and providing additional flexibility for FSS spectrum use. The Commission also released a Further Notice of Proposed Rulemaking proposing to remove the domestic coverage requirement for NGSO FSS systems.

Timetable:

Action | Date | FR Cite
NPRM | 01/11/17 | 82 FR 3258
NPRM Comment Period End | 04/10/17
FNPRM | 11/15/17 | 82 FR 52869
R&O | 12/18/17 | 82 FR 59972
FNPRM Comment Period End | 01/02/18
Next Action Undetermined

Regulatory Flexibility Analysis Required: Yes.

Agency Contact: Clay DeCell, Attorney Advisor, Federal Communications Commission, 445 12th Street SW, Washington, DC 20554, Phone: 202 418-0803, Email: clay.decell@fcc.gov.

RIN: 3060-AK59

303. Amendment of Parts 2 and 25 of the FCC Rules To Facilitate the Use of Earth Stations in Motion Communicating With Geostationary Orbit Space Stations in FSS Bands: IB Docket No. 17-95

E.O. 13771 Designation: Independent agency.

Legal Authority: 47 U.S.C. 154(i); 47 U.S.C. 157(a); 47 U.S.C. 303; 47 U.S.C. 308(b); 47 U.S.C. 316

Abstract: In June 2017, the Commission began a rulemaking to streamline, consolidate, and harmonize rules governing earth stations in motion (ESIMs) used to provide satellite-based services on ships, airplanes and vehicles communicating with geostationary-satellite orbit (GSO), fixed-satellite service (FSS) satellite systems. In September 2018, the Commission adopted rules governing communications of ESIMs with GSO satellites. These rules addressed communications in the conventional C-, Ku-, and Ka-bands, as well as portions of the extended Ku-band. At the same time, the Commission also released a Further Notice of Proposed Rulemaking that sought comment on allowing ESIMs to operate in all of the frequency bands in which earth stations at fixed locations operating in GSO FSS satellite networks can be blanket-licensed. Specifically, comment was sought on expanding the frequencies available for communications of ESIMs with GSO FSS satellites to include the following frequency bands: 10.7-10.95 GHz, 11.2-11.45 GHz, 17.8-18.3 GHz, 18.8-19.3 GHz, 19.3-19.4 GHz, 19.6-19.7 GHz (space-to-Earth); and 28.6-29.1 GHz (Earth-to-space).

Timetable:

Action | Date | FR Cite
NPRM | 06/16/17 | 82 FR 27652
NPRM Comment Period End | 08/30/17
OMB-approval for Information Collection of R&O Comment Period End | 08/28/18
FNPRM | 02/22/19 | 84 FR 5654
R&O | 03/25/19 | 84 FR 11090
FNPRM Comment Period End | 04/28/19
Next Action Undetermined

Regulatory Flexibility Analysis Required: Yes.

Agency Contact: Cindy Spiers, Attorney Advisor, Federal Communications Commission, 445 12th Street SW, Washington, DC 20554, Phone: 202 418-1593, Email: cindy.spiers@fcc.gov.

RIN: 3060-AK84

304. Further Streamlining Part 25 Rules Governing Satellite Services: IB Docket No. 18-314

E.O. 13771 Designation: Independent agency.

Legal Authority: 47 U.S.C. secs. 154(i); 47 U.S.C. 161; 47 U.S.C. 303; 47 U.S.C. 316

Abstract: Under the Commission's rules, satellite operators must follow separate application and authorization processes for the satellites and earth stations that make up their networks and have no option for a single, unified network license. In this Notice of Proposed Rulemaking, the FCC proposes to create a new, optional, unified license to include both space stations and earth stations operating in a geostationary-satellite orbit, fixed-satellite service (GSO FSS) satellite network. In addition, the Commission proposes to repeal or modify unnecessarily burdensome rules in Part 25 governing satellite services, such as annual reporting requirements. These proposals would greatly simplify the Commission's licensing and regulation of satellite systems.

Timetable:

Action | Date | FR Cite
NPRM | 01/31/19 | 84 FR 638
NPRM Comment Period End | 03/18/19
NPRM Reply Comment Period End | 04/16/19
Next Action Undetermined

Regulatory Flexibility Analysis Required: Yes.

Agency Contact: Clay DeCell, Attorney Advisor, Federal Communications Commission, 445 12th Street, Washington, DC 20554, Phone: 202 418-0803, Email: clay.decell@fcc.gov.

RIN: 3060-AK87

305. Streamlining Licensing Procedures for Small Satellites; IB Docket No. 18-86

E.O. 13771 Designation: Independent agency.

Legal Authority: 47 U.S.C. 154(i); 47 U.S.C. 157; 47 U.S.C. 158; 47 U.S.C. 301; 47 U.S.C. 303; 47 U.S.C. 308; 47 U.S.C. 309

Abstract: On April 17, 2018, the Commission released a Notice of Proposed Rulemaking (NPRM) proposing to modify the Commission's part 25 satellite licensing rules to create a new category of application specific to small satellites. The Commission sought comment on criteria that would define this new category and proposed that applicants meeting the criteria could take advantage of a simplified application, faster processing, and lower fees, among other things. The proposed streamlined licensing process was developed based on the features and characteristics that typically distinguish small satellite operations from other types of satellite operations, such as shorter orbital lifetime and less intensive frequency use. The NPRM detailed this small satellite procedure, which would serve as an optional alternative to existing procedures for authorization of small satellites. The NPRM also provided background information on the Commission's other processes for licensing and authorizing small satellites, including under the experimental (part 5) and amateur (part 97) rules, although no changes were proposed to either of those parts. The NPRM also sought comment on topics related to spectrum use by small satellites. The Commission asked for comment on typical small satellite frequency use characteristics, how to facilitate compatibility with Federal operations, use of particular spectrum for inter-satellite links by small satellites, and other issues related to operations by small satellites in frequency bands. Finally, the NPRM sought comment on the appropriate application fee that would apply to the proposed optional part 25 streamlined process. The Commission proposed a $30,000 application fee. It noted that any changes to the annual regulatory fees applicable to the small satellites authorized under the streamlined process would be addressed through the separate annual proceeding for review of regulatory fees.

Timetable:

Action | Date | FR Cite
NPRM | 04/18/18 | 83 FR 24064
NPRM Comment Period End | 08/07/18
R&O (adopted date) | 08/01/19
Next Action Undetermined

Regulatory Flexibility Analysis Required: Yes.

Agency Contact: Merissa Velez, Attorney Advisor, Federal Communications Commission, 445 12th Street SW, Washington, DC 20554, Phone: 202 418-0751, Email: merissa.velez@fcc.gov.

RIN: 3060-AK88

306. Facilitating the Communications of Earth Stations in Motion With Non-Geostationary Orbit Space Stations: IB Docket No. 18-315

E.O. 13771 Designation: Independent agency.

Legal Authority: 47 U.S.C. 154(i); 47 U.S.C. 157(a); 47 U.S.C. 303; 47 U.S.C. 308(b); 47 U.S.C. 316

Abstract: In November 2018, the Commission adopted a notice of proposed rulemaking that proposed to expand the scope of the Commission's rules governing ESIMs operations to cover communications with NGSO FSS satellites. Comment was sought on establishing a regulatory framework for communications of ESIMs with NGSO FSS satellites that would be analogous to that which exists for ESIMs communicating with GSO FSS satellites. In this context, comment was sought on: (1) Allowing ESIMs to communicate in many of the same conventional Ku-band, extended Ku-band, and Ka-band frequencies that were allowed for communications of ESIMs with GSO FSS satellites (with the exception of the 18.6-18.8 GHz and 29.25-29.5 GHz frequency bands); (2) extending blanket licensing to ESIMs communicating with NGSO satellites; and (3) revisions to specific provisions in the Commission's rules to implement these changes. The specific frequency bands for communications of ESIMs with NGOS FSS satellites on which comment was sought are as follows: 10.7-11.7 GHz; 11.7-12.2 GHz; 14.0-14.5 GHz; 17.8-18.3 GHz; 18.3-18.6 GHz; 18.8-19.3 GHz; 19.3-19.4 GHz; 19.6-19.7 GHz; 19.7-20.2 GHz; 28.35-28.6 GHz; 28.6-29.1 GHz; and 29.5-30.0 GHz.

Timetable:

Action | Date | FR Cite
NPRM | 12/28/18 | 83 FR 67180
NPRM Comment Period End | 03/13/19
Next Action Undetermined

Regulatory Flexibility Analysis Required: Yes.

Agency Contact: Cindy Spiers, Attorney Advisor, Federal Communications Commission, 445 12th Street SW, Washington, DC 20554, Phone: 202 418-1593, Email: cindy.spiers@fcc.gov.

RIN: 3060-AK89

307. Mitigation of Orbital Debris in the New Space Age: IB Docket No. 18-313

E.O. 13771 Designation: Independent agency.

Legal Authority: 47 U.S.C. 154; 47 U.S.C. 157; 47 U.S.C. 301; 47 U.S.C. 302; 47 U.S.C. 303; 47 U.S.C. 307; 47 U.S.C. 308; 47 U.S.C. 309; 47 U.S.C. 310; 47 U.S.C. 319; 47 U.S.C. 332; 47 U.S.C. 336; 47 U.S.C. 605; 47 U.S.C. 721

Abstract: The Commission's current orbital debris rules were first adopted in 2004. Since then, significant changes have occurred in satellite technologies and market conditions, particularly in Low Earth Orbit, i.e., below 2000 kilometers altitude. These changes include the increasing use of lower cost small satellites and proposals to deploy large constellations of non-geostationary satellite orbit (NGSO) systems, some involving thousands of satellites.

The NPRM proposes changes to improve disclosure of debris mitigation plans. The NPRM also makes proposals and seeks comment related to satellite disposal reliability and methodology, appropriate deployment altitudes in low-Earth-orbit, and on-orbit lifetime, with a particular focus on large NGSO satellite constellations. Other aspects of the NPRM include new rule proposals for geostationary orbit satellite (GSO) license term extension requests, and consideration of disclosure requirements related to several emerging technologies and new types of commercial operations, including rendezvous and proximity operations.

Timetable:

Action | Date | FR Cite
NPRM | 02/19/19 | 84 FR 4742
NPRM Comment Period End | 05/06/19
Next Action Undetermined

Regulatory Flexibility Analysis Required: Yes.

Agency Contact: Merissa Velez, Attorney Advisor, Federal Communications Commission, 445 12th Street SW, Washington, DC 20554, Phone: 202 418-0751, Email: merissa.velez@fcc.gov.

RIN: 3060-AK90

FEDERAL COMMUNICATIONS COMMISSION (FCC)

Media Bureau

Long-Term Actions

308. Authorizing Permissive Use of the “Next Generation” Broadcast Television Standard (GN Docket No. 16-142)

E.O. 13771 Designation: Independent agency.

Legal Authority: 47 U.S.C. 151; 47 U.S.C. 154; 47 U.S.C. 157; 47 U.S.C. 301; 47 U.S.C. 303; 47 U.S.C. 307 to 309; 47 U.S.C. 316; 47 U.S.C. 319; 47 U.S.C. 325(b); 47 U.S.C. 336; 47 U.S.C. 399(b); 47 U.S.C. 403; 47 U.S.C. 534; 47 U.S.C. 535

Abstract: In this proceeding, the Commission seeks to authorize television broadcasters to use the “Next Generation” ATSC 3.0 broadcast television transmission standard on a voluntary, market-driven basis, while they continue to deliver current-generation digital television broadcast service to their viewers. In the Report and Order, the Commission adopted rules to afford broadcasters flexibility to deploy ATSC 3.0-based transmissions, while minimizing the impact on, and costs to, consumers and other industry stakeholders.

The FNPRM sought comment on three topics: (1) Issues related to the local simulcasting requirement, (2) whether to let broadcasters use vacant channels in the broadcast band, and (3) the import of the Next Gen standard on simulcasting stations.

Timetable:

Action | Date | FR Cite
NPRM | 03/10/17 | 82 FR 13285
NPRM Comment Period End | 05/09/17
FNPRM | 12/20/17 | 82 FR 60350
R&O | 02/02/18 | 83 FR 4998
FNPRM Comment Period End | 02/20/18
FNPRM Reply Comment Period End | 03/20/18
Next Action Undetermined

Regulatory Flexibility Analysis Required: Yes.

Agency Contact: Evan Baranoff, Attorney, Policy Division, Federal Communications Commission, Media Bureau, 445 12th Street SW, Washington, DC 20554, Phone: 202 418-7142, Email: evan.baranoff@fcc.gov.

RIN: 3060-AK56

309. Electronic Delivery of MVPD Communications (MB Docket No. 17-317)

E.O. 13771 Designation: Independent agency.

Legal Authority: 47 U.S.C., sec. 151

Abstract: In this proceeding, the Commission addresses ways to modernize certain notice provisions in part 76 of the Commission's rules governing multichannel video and cable television service. The Commission considers allowing various types of written communications from cable operators to subscribers to be delivered electronically. Additionally, the Commission considers permitting cable operators to reply to consumer requests or complaints by email in certain circumstances. The Commission also evaluates updating the requirement in the Commission's rules that requires broadcast television stations to send carriage election notices via certified mail.

Timetable:

Action | Date | FR Cite
NPRM | 01/16/18 | 83 FR 2119
NPRM Comment Period End | 02/15/18
R&O and FNPRM | 08/30/19 | 84 FR 45703
Next Action Undetermined

Regulatory Flexibility Analysis Required: Yes.

Agency Contact: Lyle Elder, Attorney, Policy Division, Media Bureau, Federal Communications Commission, 445 12th Street SW, Washington, DC 20554, Phone: 202 418-2120, Email: lyle.elder@fcc.gov.

RIN: 3060-AK70

310. 2018 Quadrennial Regulatory Review of the Commission's Broadcast Ownership Rules (MB Docket 18-349)

E.O. 13771 Designation: Independent agency.

Legal Authority: 47 U.S.C. 151; 47 U.S.C. 152(a); 47 U.S.C. 154(i); 47 U.S.C. 257; 47 U.S.C. 303; 47 U.S.C. 307; 47 U.S.C. 309 and 310; 47 U.S.C. 403; sec. 202(h) of the Telecommunications Act

Abstract: Section 202(h) of the Telecommunications Act of 1996 requires the Commission to review its broadcast ownership rules every 4 years and to determine whether any such rules are necessary in the public interest as the result of competition. The rules subject to review in the 2018 quadrennial review are the Local Radio Ownership Rule, the Local Television Ownership Rule, and the Dual Network Rule. The Commission also sought comment on potential pro-diversity proposals including extending cable procurement requirements to broadcasters, adopting formulas aimed at creating media ownership limits that promote diversity, and developing a model for market-based, tradeable diversity credits to serve as an alternative method for setting ownership limits.

Timetable:

Action | Date | FR Cite
NPRM | 02/28/19 | 84 FR 6741
Next Action Undetermined

Regulatory Flexibility Analysis Required: Yes.

Agency Contact: Brendan Holland, Chief, Industry Analysis Division, Media Bureau, Federal Communications Commission, 445 12th Street SW, Washington, DC 20554, Phone: 202 418-2486, Email: brendan.holland@fcc.gov.

RIN: 3060-AK77

311. Children's Television Programming Rules (MB Docket 18-202)

E.O. 13771 Designation: Independent agency.

Legal Authority: 47 U.S.C. 303; 47 U.S.C. 303b; 47 U.S.C. 307; 47 U.S.C. 336

Abstract: The Children's Television Act (CTA) of 1990 requires that the Commission consider, in its review of television license renewals, the extent to which the licensee has served the educational and informational needs of children through its overall programming, including programming specifically designed to serve such needs. The Commission adopted rules implementing the CTA in 1991 and revised these rules in 1996, 2004, and 2006. In this proceeding, the Commission proposes to revise the children's television programming rules to modify outdated requirements and to give broadcasters greater flexibility in serving the educational and informational needs of children.

Timetable:

Action | Date | FR Cite
NPRM | 07/25/18 | 83 FR 35158
NPRM Comment Period End | 09/28/18
R&O | 08/16/19 | 84 FR 41947
FNPRM | 08/16/19 | 84 FR 41949
FNPRM Comment Period End | 09/16/19
FNPRM Reply Comment Period End | 10/15/19
Next Action Undetermined

Regulatory Flexibility Analysis Required: Yes.

Agency Contact: Kathy Berthot, Attorney, Policy Division Media Bureau, Federal Communications Commission, 445 12th Street SW, Washington, DC 20554, Phone: 202 418-7454, Email: kathy.berthot@fcc.gov.

RIN: 3060-AK78

312. Amendment of Part 74 of the Commission's Rules Regarding FM Translator Interference (MB Docket 18-119)

E.O. 13771 Designation: Independent agency.

Legal Authority: 47 U.S.C. 151; 47 U.S.C. 154(i) and 154(j); 47 U.S.C. 301; 47 U.S.C. 303; 47 U.S.C. 307 to 309; 47 U.S.C. 316; 47 U.S.C. 319

Abstract: In this proceeding, the Commission proposes to streamline the rules relating to interference caused by FM translators and expedite the translator complaint resolution process. The rule changes are intended to limit or avoid protracted and contentious interference resolution disputes, provide translator licensees both additional flexibility to remediate interference and additional investment certainty, and allow earlier and expedited resolution of interference complaints by affected stations.

Timetable:

Action | Date | FR Cite
NPRM | 06/06/18 | 83 FR 26229
NPRM Comment Period End | 07/06/18
R&O | 06/14/19 | 84 FR 27734
Next Action Undetermined

Regulatory Flexibility Analysis Required: Yes.

Agency Contact: Christine Goepp, Attorney, Audio Div., Media Bureau, Federal Communications Commission, 445 12th Street SW, Washington, DC 20554, Phone: 202 418-7834, Email: christine.geopp@fcc.gov.

RIN: 3060-AK79

313. Equal Employment Opportunity Enforcement (MB Docket 19-177)

E.O. 13771 Designation: Independent agency.

Legal Authority: 47 U.S.C. 151; 47 U.S.C. 154(i); 47 U.S.C. 154(j); 47 U.S.C. 334; 47 U.S.C. 554

Abstract: In this proceeding, the Commission seeks comment on ways in which it can make improvements to equal employment opportunity (EEO) compliance and enforcement.

Timetable:

Action | Date | FR Cite
NPRM | 07/22/19 | 84 FR 35063
Next Action Undetermined

Regulatory Flexibility Analysis Required: Yes.

Agency Contact: Radhika Karmarker, Attorney Advisor, IAD, Federal Communications Commission, 445 12th Street SW, Washington, DC 20554, Phone: 202 418-1523, Email: radhika.karmarkar@fcc.gov.

RIN: 3060-AK86

314. • Use of Common Antenna Site (MB Docket No. 19-282)

E.O. 13771 Designation: Independent agency.

Legal Authority: 47 U.S.C. 151; 47 U.S.C. 154(i); 47 U.S.C. 154(j); 47 U.S.C. 303(r); 47 U.S.C. 307; 47 U.S.C. 309

Abstract: In this proceeding, the Commission seeks comment on whether the common antenna siting rules for FM and TV broadcaster applicants and licensees are necessary given the current broadcasting marketplace.

Timetable:

Action | Date | FR Cite
R&O | 08/16/19 | 84 FR 41947
FNPRM | 11/06/19 | 84 FR 59756
FNPRM Comment Period End | 12/06/19
Next Action Undetermined

Regulatory Flexibility Analysis Required: Yes.

Agency Contact: Kim Matthews, Attorney, Policy Division, Federal Communications Commission, Media Bureau, 445 12th Street SW, Washington, DC 20554, Phone: 202 418-2154, Fax: 202 418-2053, Email: kim.matthews@fcc.gov.

RIN: 3060-AK99

FEDERAL COMMUNICATIONS COMMISSION (FCC)

Office of Managing Director

Long-Term Actions

315. Assessment and Collection of Regulatory Fees

E.O. 13771 Designation: Independent agency.

Legal Authority: 47 U.S.C. 159

Abstract: Section 9 of the Communications Act of 1934, as amended (47 U.S.C. 159), requires the Federal Communications Commission to recover the cost of its activities by assessing and collecting annual regulatory fees from beneficiaries of the activities.

Timetable:

Action | Date | FR Cite
NPRM | 06/06/17 | 82 FR 26019
R&O | 09/22/17 | 82 FR 44322
NPRM | 06/14/18 | 83 FR 27846
NPRM Comment Period End | 06/21/18
R&O | 09/18/18 | 83 FR 47079
NPRM | 06/05/19 | 84 FR 26234
NPRM Comment Period End | 06/07/19
R&O | 09/26/19 | 84 FR 50890
Next Action Undetermined

Regulatory Flexibility Analysis Required: Yes.

Agency Contact: Roland Helvajian, Office of the Managing Director, Federal Communications Commission, 445 12th Street SW, Washington, DC 20554, Phone: 202 418-0444, Email: roland.helvajian@fcc.gov.

RIN: 3060-AK64

FEDERAL COMMUNICATIONS COMMISSION (FCC)

Public Safety and Homeland Security Bureau

Long-Term Actions

316. Wireless E911 Location Accuracy Requirements: PS Docket No. 07-114

E.O. 13771 Designation: Independent agency.

Legal Authority: 47 U.S.C. 151; 47 U.S.C. 154; 47 U.S.C. 332

Abstract: This rulemaking is related to the proceedings in which the FCC previously acted to improve the quality of all emergency services. Wireless carriers must provide specific automatic location information in connection with 911 emergency calls to Public Safety Answering Points (PSAPs). Wireless licensees must satisfy enhanced 911 location accuracy standards at either a county-based or a PSAP-based geographic level.

Timetable:

Action | Date | FR Cite
NPRM | 06/20/07 | 72 FR 33948
R&O | 02/14/08 | 73 FR 8617
Public Notice | 09/25/08 | 73 FR 55473
FNPRM; NOI | 11/02/10 | 75 FR 67321
Public Notice | 11/18/09 | 74 FR 59539
2nd R&O | 11/18/10 | 75 FR 70604
Second NPRM | 08/04/11 | 76 FR 47114
Second NPRM Comment Period End | 11/02/11
Final Rule | 04/28/11 | 76 FR 23713
NPRM, 3rd R&O, and 2nd FNPRM | 09/28/11 | 76 FR 59916
3rd FNPRM | 03/28/14 | 79 FR 17820
Order Extending Comment Period | 06/10/14 | 79 FR 33163
3rd FNPRM Comment Period End | 07/14/14
Public Notice (Release Date) | 11/20/14
Public Notice Comment Period End | 12/17/14
4th R&O | 03/04/15 | 80 FR 11806
Final Rule | 08/03/15 | 80 FR 45897
Order Granting Waiver | 07/10/17
NPRM | 09/26/18 | 83 FR 54180
4th NPRM | 03/18/19 | 84 FR 13211
Next Action Undetermined

Regulatory Flexibility Analysis Required: Yes.

Agency Contact: Brenda Boykin, Attorney Advisor, Public Safety and Homeland Security Bureau, Federal Communications Commission, 445 12th Street SW, Washington, DC 20554, Phone: 202 418-2062, Email: brenda.boykin@fcc.gov.

RIN: 3060-AJ52

317. Improving Outage Reporting for Submarine Cables and Enhancing Submarine Cable Outage Data; GN Docket No. 15-206

E.O. 13771 Designation: Independent agency.

Legal Authority: 47 U.S.C. 151; 47 U.S.C. 154; 47 U.S.C. 34 to 39; 47 U.S.C. 301

Abstract: This proceeding takes steps toward assuring the reliability and resiliency of submarine cables, a critical piece of the Nation's communications infrastructure, by proposing to require submarine cable licensees to report to the Commission when outages occur and communications are disrupted. The Commission's intent is to enhance national security and emergency preparedness by these actions.

Timetable:

Action | Date | FR Cite
NPRM (Release Date) | 09/18/15
R&O | 06/24/16 | 81 FR 52354
Petitions for Recon | 09/08/16
Petitions for Recon—Public Comment | 10/17/16 | 81 FR 75368
Order on Recon. | 12/20/19
Order on Recon | 12/20/19
Next Action Undetermined

Regulatory Flexibility Analysis Required: Yes.

Agency Contact: Brenda Villanueva, Attorney Advisor, Public Safety and Homeland Security Bureau, Federal Communications Commission, 445 12th Street SW, Washington, DC 20554, Phone: 202 418-7005, Email: brenda.villanueva@fcc.gov.

RIN: 3060-AK39

318. Amendments to Part 4 of the Commission's Rules Concerning Disruptions to Communications: PS Docket No. 15-80

E.O. 13771 Designation: Independent agency.

Legal Authority: Sec. 1, 4(i), 4(j), 4(o), 251(e)(3), 254, 301, 303(b), 303(g), 303(r), 307, 309(a), 309(j); 316, 332, 403, 615a-1, and 615c of Pub. L. 73-416, 4 Stat. 1064, as amended; and section 706 of Pub. L. 104-104, 110 Stat. 56; 47 U.S.C. 151, 154(i)-(j) & (o), 251(e)(3), 254, 301, 303(b), 303(g), 303(r), 307; 309(a), 309(j), 316, 332, 403, 615a-1, 615c, and 1302, unless otherwise noted

Abstract: The 2004 Report and Order (R&O) extended the Commission's communication disruptions reporting rules to non-wireline carriers and streamlined reporting through a new electronic template (see docket ET Docket 04-35). In 2015, this proceeding, PS Docket 15-80, was opened to amend the original communications disruption reporting rules from 2004 in order to reflect technology transitions observed throughout the telecommunications sector. The Commission seeks to further study the possibility to share the reporting database information and access with State and other Federal entities. In May 2016, the Commission released a Report and Order, FNPRM, and Order on Reconsideration (see also Dockets 11-82 and 04-35). The R&O adopted rules to update the part 4 requirements to reflect technology transitions. The FNPRM sought comment on sharing information in the reporting database. Comments and replies were received by the Commission in August and September 2016.

Timetable:

Action | Date | FR Cite
NPRM, 2nd R&O, Order on Recon | 06/16/15 | 80 FR 34321
NPRM Comment Period End | 07/31/15
R&O | 07/12/16 | 81 FR 45055
FNPRM, 1 Part 4 R&O, Order on Recon | 08/11/16 | 81 FR 45059
Order Denying Reply Comment Deadline Extension Request | 09/08/16
FNPRM Comment Period End | 09/12/16
Announcement of Effective Date for Rule Changes in R&O | 06/22/17 | 82 FR 28410
Next Action Undetermined

Regulatory Flexibility Analysis Required: Yes.

Agency Contact: Robert Finley, Attorney Advisor, Public Safety and Homeland Security Bureau, Federal Communications Commission, 445 12th Street SW, Washington, DC 20554, Phone: 202 418-7835, Email: robert.finley@fcc.gov.

RIN: 3060-AK40

319. New Part 4 of the Commission's Rules Concerning Disruptions to Communications; ET Docket No. 04-35

E.O. 13771 Designation: Independent agency.

Legal Authority: 47 U.S.C. 154 and 155; 47 U.S.C. 201; 47 U.S.C. 251; 47 U.S.C. 307; 47 U.S.C. 316

Abstract: The proceeding creates a new part 4 in title 47 and amends part 63.100. The proceeding updates the Commission's communication disruptions reporting rules for wireline providers formerly in 47 CFR 63.100 and extends these rules to other non-wireline providers. Through this proceeding, the Commission streamlines the reporting process through an electronic template. The Report and Order received several petitions for reconsideration, of which two were eventually withdrawn. In 2015, seven were addressed in an Order on Reconsideration and in 2016 another petition was addressed in an Order on Reconsideration. One petition (CPUC Petition) remains pending regarding NORS database sharing with States, which is addressed in a separate proceeding, PS Docket 15-80. To the extent the communication disruption rules cover VoIP, the Commission studies and addresses these questions in a separate docket, PS Docket 11-82.

In May 2016, the Commission released a Report and Order, FNPRM, and Order on Reconsideration (see Dockets 11-82 and 15-80). The Order on Reconsideration addressed outage reporting for events at airports, and the FNPRM sought comment on database sharing. The Commission received comments and replies in August and September 2016.

Timetable:

Action | Date | FR Cite
NPRM | 03/26/04 | 69 FR 15761
R&O | 11/26/04 | 69 FR 68859
Denial for Petition for Partial Stay | 12/02/04
Seek Comment on Petition for Recon | 02/02/10
Reply Period End | 03/19/10
Seek Comment on Broadband and Interconnected VOIP Service Providers | 07/02/10
Reply Period End | 08/16/12
2nd R&O, and Order on Recon, NPRM | 06/16/15 | 80 FR 34321
R&O | 07/12/16 | 81 FR 45055
FNPRM, 1 Part 4 R&O, Order on Recon | 08/11/16 | 81 FR 45095, 81 FR 45055
Order Denying Extension of Time to File Reply Comments | 09/08/16
Announcement of Effective Date for Rule Changes in R&O | 06/22/17 | 82 FR 28410
Second Further Notice of Proposed Rulemaking | To Be Determined

Regulatory Flexibility Analysis Required: Yes.

Agency Contact: Robert Finley, Attorney Advisor, Public Safety and Homeland Security Bureau, Federal Communications Commission, 445 12th Street SW, Washington, DC 20554, Phone: 202 418-7835, Email: robert.finley@fcc.gov.

RIN: 3060-AK41

320. Wireless Emergency Alerts (WEA): PS Docket No. 15-91

E.O. 13771 Designation: Independent agency.

Legal Authority: Pub. L. 109-347, title VI; 47 U.S.C. 151; 47 U.S.C. 154(i)

Abstract: This proceeding was initiated to improve Wireless Emergency Alerts (WEA) messaging, ensure that WEA alerts reach only those individuals to whom they are relevant, and establish an end-to-end testing program based on advancements in technology.

Timetable:

Action | Date | FR Cite
NPRM | 11/19/15 | 80 FR 77289
NPRM Comment Period End | 01/13/16
NPRM Reply Comment Period End | 02/12/16
Order | 11/01/16 | 81 FR 75710
FNPRM | 11/08/16 | 81 FR 78539
Comment Period End | 12/08/16
Petition for Recon | 12/19/16 | 81 FR 91899
Order on Recon | 12/04/17 | 82 FR 57158
2nd R&O and 2nd Order on Recon | 02/28/18 | 83 FR 8619
Public Notice | 04/26/18 | 83 FR 18257
Public Notice Comment Period End | 05/29/18
Public Notice Reply Comment Period End | 06/11/18
Next Action Undetermined

Regulatory Flexibility Analysis Required: Yes.

Agency Contact: James Wiley, Attorney Advisor, Public Safety and Homeland Security Bureau, Federal Communications Commission, 445 12th Street SW, Washington, DC 20554, Phone: 202 418-1678, Email: james.wiley@fcc.gov.

RIN: 3060-AK54

321. Blue Alert EAS Event Code

E.O. 13771 Designation: Independent agency.

Legal Authority: 47 U.S.C. 151 and 152; 47 U.S.C. 154(i) and 154(o); 47 U.S.C. 301; 47 U.S.C. 303(r) and (v); 47 U.S.C. 307; 47 U.S.C. 309; 47 U.S.C. 335; 47 U.S.C. 403; 47 U.S.C.544(g); 47 U.S.C. 606 and 615

Abstract: In 2015, Congress adopted the Blue Alert Act to help the States provide effective alerts to the public and law enforcement when police and other law enforcement officers are killed or are in danger. To ensure that these State plans are compatible and integrated throughout the United States as envisioned by the Blue Alert Act, the Blue Alert Coordinator made a series of recommendations in a 2016 Report to Congress. Among these recommendations, the Blue Alert Coordinator identified the need for a dedicated EAS event code for Blue Alerts, and noted the alignment of the EAS with the implementation of the Blue Alert Act. On June 22, 2017, the FCC released an NPRM proposing to revise the EAS rules to adopt a new event code, which would allow transmission of Blue Alerts to the public over the EAS and thus satisfy the stated need for a dedicated EAS event code. On December 14, 2017, the Commission released an Order adopting a new Blue Alert EAS Code-BLU. EAS participants must be able to implement the BLU code by January 19, 2019. BLU alerts must be available to wireless emergency alerts by July, 2019.

Timetable:

Action | Date | FR Cite
NPRM | 06/30/17 | 82 FR 29811
NPRM Comment Period End | 07/31/17
NPRM Reply Comment Period End | 08/29/17
Order | 12/14/18 | 83 FR 2557
Next Action Undetermined

Regulatory Flexibility Analysis Required: Yes.

Agency Contact: Linda Pintro, Attorney Advisor, Policy and Licensing Division, PSHSB, Federal Communications Commission, 445 12th Street SW, Washington, DC 21043, Phone: 202 418-7490, Email: linda.pintro@fcc.gov.

RIN: 3060-AK63

FEDERAL COMMUNICATIONS COMMISSION (FCC)

Wireless Telecommunications Bureau

Final Rule Stage

322. Expanding Flexible Use of the 3.7 to 4.2 GHz Band: GN Docket No. 18-122

E.O. 13771 Designation: Independent agency.

Legal Authority: 47 U.S.C. 151 to 153; 47 U.S.C. 154(i); 47 U.S.C 157; 47 U.S.C. 201; 47 U.S.C. 301 to 304; 47 U.S.C. 307 to 310; 47 U.S.C. 1302; . . .

Abstract: In this proceeding, the Commission is pursuing the joint goals of making spectrum available for new wireless uses, while balancing desired speed to the market, efficiency of use, and effectively accommodating incumbent Fixed Satellite Service (FSS) and Fixed Service (FS) operations in the band. To gain a clearer understanding of the operations of current users in the band, the Commission collects information on current FSS uses. The Commission then seeks comment on various proposals for transitioning all or part of the band for flexible use, terrestrial mobile spectrum, with clearing for flexible use beginning at 3.7 GHz and moving higher up in the band as more spectrum is cleared. The Commission also seeks comment on potential changes to the Commission's rules to promote more efficient and intensive fixed use of the band on a shared basis starting in the top segment of the band and moving down the band. To add a mobile, except aeronautical mobile, allocation and to develop rules that would enable the band to be transitioned for more intensive fixed and flexible uses, the Commission encourages commenters to discuss and quantify the costs and benefits associated with any proposed approach along with other helpful technical or procedural details.

Timetable:

Action | Date | FR Cite
NPRM | 08/29/18 | 83 FR 44128
NPRM Comment Period End | 11/27/18
Public Notice | 05/20/19 | 84 FR 22733
Certifications and Data Filing Deadline | 05/28/19
Public Notice | 06/03/19 | 84 FR 22514
Public Notice Comment Period End | 07/03/19
Public Notice Reply Comment Period End | 07/18/19
R&O | 06/00/20

Regulatory Flexibility Analysis Required: Yes.

Agency Contact: Peter Daronco, Deputy Division Chief, Broadband Division, Federal Communications Commission, Wireless Telecommunications Bureau, 445 12th Street SW, Washington, DC 20554, Phone: 202 418-7235, Email: peter.daronco@fcc.gov.

RIN: 3060-AK76

FEDERAL COMMUNICATIONS COMMISSION (FCC)

Wireless Telecommunications Bureau

Long-Term Actions

323. Universal Service Reform Mobility Fund (WT Docket No. 10-208)

E.O. 13771 Designation: Independent agency.

Legal Authority: 47 U.S.C. 151; 47 U.S.C. 154(i); 47 U.S.C. 155; 47 U.S.C. 160; 47 U.S.C. 201; 47 U.S.C. 205; 47 U.S.C. 225; 47 U.S.C. 254; 47 U.S.C. 301; 47 U.S.C. 303; 47 U.S.C. 303(c); 47 U.S.C. 303(f); 47 U.S.C. 303(r); 47 U.S.C. 303(y); 47 U.S.C. 309; 47 U.S.C. 310

Abstract: This proceeding establishes the Mobility Fund, which the Commission is implementing in two phases. Mobility Fund Phase I consisted of two reverse auctions that provided initial infusions of funds toward solving persistent gaps in mobile services through targeted, one-time support for the build-out of current and next-generation wireless infrastructure in areas where these services are unavailable. The Mobility Fund Phase II (MF-II) reverse auction aims to provide support funds over a 10-year term to support build-out of current and next-generation wireless infrastructure in areas where unsubsidized services are unavailable. MF-II began with a one-time collection of existing wireless broadband coverage data from current providers to determine the areas in which qualified service has been deployed, which data was used to create a map of areas presumptively eligible for MF-II support. Entities could challenge asserted unsubsidized 4G LTE coverage through the Mobility Fund Phase II challenge process, and providers may file response data countering challenges. The results of the challenge process will determine the final list of areas eligible for funding through the MF-II auction.

Timetable:

Action | Date | FR Cite
NPRM | 10/14/10 | 75 FR 67060
NPRM Comment Period End | 01/18/11
R&O | 11/29/11 | 76 FR 73830
FNPRM | 12/16/11 | 76 FR 78384
R&O | 12/28/11 | 76 FR 81562
2nd R&O | 07/03/12 | 77 FR 39435
4th Order on Recon | 08/14/12 | 77 FR 48453
FNPRM | 07/09/14 | 79 FR 39196
R&O, Declaratory Ruling, Order, MO&O, and 7th Order on Recon | 07/09/14 | 79 FR 39163
FNPRM Comment Period End | 09/08/14
R&O | 10/07/16 | 81 FR 69696
FNPRM | 10/07/16 | 81 FR 69772
FNPRM | 03/13/17 | 82 FR 13413
R&O | 03/28/17 | 82 FR 15422
R&O Correction | 04/04/17 | 82 FR 16297
Order on Recon and 2nd R&O | 09/08/17 | 82 FR 42473
2nd Order on Recon | 04/25/18 | 83 FR 17934
Order and MO&O | 08/30/18 | 83 FR 44241
NPRM | 08/30/18 | 83 FR 44254
3rd R&O | 03/06/19 | 84 FR 8003
Next Action Undetermined

Regulatory Flexibility Analysis Required: Yes.

Agency Contact: Audra Hale-Maddox, Attorney Advisor, Federal Communications Commission, 445 12th Street SW, Washington, DC 20554, Phone: 202 418-2109, Email: audra.hale-maddox@fcc.gov.

RIN: 3060-AJ58

324. Expanding the Economic and Innovation Opportunities of Spectrum Through Incentive Auctions (GN Docket No. 12-268)

E.O. 13771 Designation: Independent agency.

Legal Authority: 47 U.S.C. 309(j)(8)(G); 47 U.S.C. 1452

Abstract: In February 2012, the Middle Class Tax Relief and Job Creation Act was enacted (Pub. L. 112-96, 126 Stat. 156 (2012)). Title VI of that statute, commonly known as the Spectrum Act, provides the Commission with the authority to conduct incentive auctions to meet the growing demand for wireless broadband. Pursuant to the Spectrum Act, the Commission may conduct incentive auctions that will offer new initial spectrum licenses subject to flexible-use service rules on spectrum made available by licensees that voluntarily relinquish some or all of their spectrum usage rights in exchange for a portion, based on the value of the relinquished rights as determined by an auction, of the proceeds of bidding for the new licenses. In addition to granting the Commission general authority to conduct incentive auctions, the Spectrum Act requires the Commission to conduct an incentive auction of broadcast TV spectrum and sets forth special requirements for such an auction.

The Spectrum Act requires that the BIA consist of a reverse auction “to determine the amount of compensation that each broadcast television licensee would accept in return for voluntarily relinquishing some or all of its spectrum usage rights” and a forward auction of licenses in the reallocated spectrum for flexible-use services, including mobile broadband. Broadcast television licensees who elected to voluntarily participate in the auction had three bidding options: Go off-the-air, share spectrum with another broadcast television licensee, or move channels to the upper or lower VHS band in exchange for receiving part of the proceeds from auctioning that spectrum to wireless providers. The Spectrum Act also authorized the Commission to reorganize the 600 MHz band following the BIA including, as necessary, reassigning full power and Class A television stations to new channels in order to clear the spectrum sold in the BIA. That post-auction reorganization (known as the repack) is currently underway and all of the stations who were assigned new channels are scheduled to have vacated their pre-auction channels by July 3, 2020, pursuant to a 10-phase transition schedule adopted by the Commission.

In May 2014, the Commission adopted a Report and Order that laid out the general framework for the BIA. The auction started on March 29, 2016, with the submission of initial commitments by eligible broadcast licensees. The BIA ended on April 13, 2017, with the release of the Auction Closing and Channel Reassignment Public Notice that also marked the start of the 39-month transition period during which 987 of the full power and Class A television stations remaining on-the-air will transition their stations to their post-auction channel assignments in the reorganized television band. Pursuant to the Spectrum Act, the Commission will reimburse 957 of those full power and Class A stations for the reasonable costs associated with relocating to their post-auction channel assignments and will reimburse multichannel video programming distributors for their costs associated with continuing to carry the signals of those stations.

In March 2018, the Consolidated Appropriations Act (Pub. L. 115-141, at Div. E, Title V, 511, 132 Stat. 348 (2018), codified at 47 U.S.C. 1452(j)-(n)) (the Reimbursement Expansion Act or REA), extended the deadline for reimbursement of eligible entities from April 2020 to no later than July 3, 2023, and also expanded the universe of entities eligible for reimbursement to include low-power television stations and TV translator stations displaced by the BIA for their reasonably incurred costs to relocate to a new channel, and FM broadcast stations for their reasonably incurred costs for facilities necessary to reasonably minimize disruption of service as a result of the post-auction reorganization of the television band. On March 15, 2019, the Commission adopted a Report and Order setting rules for the reimbursement of eligible costs to those newly eligible entities.

Timetable:

Action | Date | FR Cite
NPRM | 11/21/12 | 77 FR 69933
R&O | 08/15/14 | 79 FR 48441
Final Rule | 10/11/17 | 82 FR 47155
NPRM | 08/27/18 | 83 FR 43613
R&O | 03/26/19 | 84 FR 11233
Next Action Undetermined

Regulatory Flexibility Analysis Required: Yes.

Agency Contact: Jean L. Kiddoo, Chair, Incentive Auction Task Force, Federal Communications Commission, 445 12th Street SW, Washington, DC 20554, Phone: 202 418-7757, Email: jean.kiddoo@fcc.gov.

RIN: 3060-AJ82

325. Amendment of Parts 1, 2, 22, 24, 27, 90, and 95 of the Commission's Rules To Improve Wireless Coverage Through the Use of Signal Boosters (WT Docket No. 10-4)

E.O. 13771 Designation: Independent agency.

Legal Authority: 15 U.S.C. 79; 47 U.S.C. 151; 47 U.S.C. 154(i); 47 U.S.C. 154(j); 47 U.S.C. 155; 47 U.S.C. 157; 47 U.S.C. 225; 47 U.S.C. 227; 47 U.S.C. 303(r)

Abstract: This action adopts new technical, operational, and registration requirements for signal boosters. It creates two classes of signal boosters—consumer and industrial—with distinct regulatory requirements for each, thereby establishing a two-step transition process for equipment certification for both consumer and industrial signal boosters sold and marketed in the United States.

Timetable:

Action | Date | FR Cite
NPRM | 05/10/11 | 76 FR 26983
R&O | 04/11/13 | 78 FR 21555
Petition for Reconsideration | 06/06/13 | 78 FR 34015
Order on Reconsideration | 11/08/14 | 79 FR 70790
FNPRM | 11/28/14 | 79 FR 70837
2nd R&O and 2nd FNPRM | 03/23/18 | 83 FR 17131
Next Action Undetermined

Regulatory Flexibility Analysis Required: Yes.

Agency Contact: Amanda Huetinck, Attorney Advisor, WTB, Federal Communications Commission, 445 12th Street SW, Washington, DC 20554, Phone: 202 418-7090, Email: amanda.huetinck@fcc.gov.

RIN: 3060-AJ87

326. Amendment of the Commission's Rules Governing Certain Aviation Ground Station Equipment (Squitter) (WT Docket Nos. 10-61 and 09-42)

E.O. 13771 Designation: Independent agency.

Legal Authority: 48 Stat. 1066, 1082 as amended; 47 U.S.C. 154; 47 U.S.C. 303; 47 U.S.C. 307(e); 47 U.S.C. 151 to 156; 47 U.S.C. 301

Abstract: This action amends part 87 rules to authorize new ground station technologies to promote safety and allow use of frequency 1090 MHz by aeronautical utility mobile stations for airport surface detection equipment (commonly referred to as “squitters”) to help reduce collisions between aircraft and airport ground vehicles.

Timetable:

Action | Date | FR Cite
NPRM | 04/28/10 | 75 FR 22352
R&O | 03/01/13 | 78 FR 61023
NPRM (release date) | 06/07/19
Next Action Undetermined

Regulatory Flexibility Analysis Required: Yes.

Agency Contact: Tim Maguire, Electronics Engineer, Federal Communications Commission, 445 12th Street SW, Washington, DC 20554, Phone: 202 418-2155, Fax: 202 418-7247, Email: tim.maguire@fcc.gov.

RIN: 3060-AJ88

327. Promoting Technological Solutions To Combat Wireless Contraband Device Use in Correctional Facilities; GN Docket No. 13-111

E.O. 13771 Designation: Independent agency.

Legal Authority: 47 U.S.C. 151 to 152; 47 U.S.C. 154(i); 47 U.S.C. 154(j); 47 U.S.C. 301; 47 U.S.C. 303(a); 47 U.S.C. 303(b); 47 U.S.C. 307 to 310; 47 U.S.C. 332; 47 U.S.C. 302(a)

Abstract: In the Report and Order, the Commission addresses the problem of illegal use of contraband wireless devices by inmates in correctional facilities by streamlining the process of deploying contraband wireless device interdiction systems (CIS)—systems that use radio communications signals requiring Commission authorization—in correctional facilities. In particular, the Commission eliminates certain filing requirements and provides for immediate approval of the lease applications needed to operate these systems.

In the Further Notice, the Commission seeks comment on a process for wireless providers to disable contraband wireless devices once they have been identified. The Commission also seeks comment on additional methods and technologies that might prove successful in combating contraband device use in correctional facilities, and on various other proposals related to the authorization process for CISs and their deployment.

Timetable:

Action | Date | FR Cite
NPRM | 06/18/13 | 78 FR 36469
NPRM Comment Period End | 08/08/13
FNPRM | 05/18/17 | 82 FR 22780
R&O | 05/18/17 | 82 FR 22742
Final Rule Effective (Except for Rules Requiring OMB Approval) | 06/19/17
FNPRM Comment Period End | 07/17/17
Final Rule Effective for 47 CFR 1.9020(n), 1.9030(m), 1.9035(o), and 20.23(a) | 10/20/17 | 82 FR 48773
Final Rule Effective for 47 CFR 1.902(d)(8), 1.9035(d)(4), 20.18(a), and 20.18(r) | 02/12/18
Next Action Undetermined

Regulatory Flexibility Analysis Required: Yes.

Agency Contact: Melissa Conway, Attorney Advisor, Mobility Div., Wireless Bureau, Federal Communications Commission, 445 12th Street SW, Washington, DC 20554, Phone: 202 418-2887, Email: melissa.conway@fcc.gov.

RIN: 3060-AK06

328. Promoting Investment in the 3550-3700 MHz Band; GN Docket No. 17-258

E.O. 13771 Designation: Independent agency.

Legal Authority: 47 U.S.C. 151 and 152; 47 U.S.C. 154(i); 47 U.S.C. 154(j); 47 U.S.C. 302(a); 47 U.S.C. 303 and 304; 47 U.S.C. 307(e); 47 U.S.C. 316

Abstract: The Report and Order and Second Further Notice of Proposed Rulemaking (NPRM) adopted by the Commission established a new Citizens Broadband Radio Service for shared wireless broadband use of the 3550 to 3700 MHz band. The Citizens Broadband Radio Service is governed by a three-tiered spectrum authorization framework to accommodate a variety of commercial uses on a shared basis with incumbent Federal and non-Federal users of the band. Access and operations will be managed by a dynamic spectrum access system. The three tiers are: Incumbent Access, Priority Access, and General Authorized Access. Rules governing the Citizens Broadband Radio Service are found in part 96 of the Commission's rules.

The Order on Reconsideration and Second Report and Order addressed several Petitions for Reconsideration submitted in response to the Report and Order and resolved the outstanding issues raised in the Second Further Notice of Proposed Rulemaking.

The 2017 NPRM sought comment on limited changes to the rules governing Priority Access Licenses in the band, adjacent channel emissions limits, and public release of base station registration information.

Timetable:

Action | Date | FR Cite
NPRM | 01/08/13 | 78 FR 1188
NPRM Comment Period End | 03/19/13
FNPRM | 06/02/14 | 79 FR 31247
FNPRM Comment Period End | 08/15/14
R&O and 2nd FNPRM | 06/15/15 | 80 FR 34119
2nd FNPRM Comment Period End | 08/14/15
Order on Recon and 2nd R&O | 07/26/16 | 81 FR 49023
NPRM | 11/28/17 | 82 FR 56193
NPRM Comment Period End | 01/29/18
R&O | 12/07/18 | 83 FR 6306
Next Action Undetermined

Regulatory Flexibility Analysis Required: Yes.

Agency Contact: Paul Powell, Assistant Chief, Mobility Division, WTB, Federal Communications Commission, 445 12th Street SW, Washington, DC 20554, Phone: 202 418-1613, Email: paul.powell@fcc.gov.

RIN: 3060-AK12

329. Use of Spectrum Bands Above 24 GHz for Mobile Services—Spectrum Frontiers: WT Docket 10-112

E.O. 13771 Designation: Independent agency.

Legal Authority: 47 U.S.C. 151 to 154; 47 U.S.C. 157; 47 U.S.C. 160; 47 U.S.C. 201; 47 U.S.C. 225; 47 U.S.C. 227; 47 U.S.C. 301 and 302; 47 U.S.C. 302(a); 47 U.S.C. 303 and 304; 47 U.S.C. 307; 47 U.S.C. 309 and 310; 47 U.S.C. 316; 47 U.S.C. 319; 47 U.S.C. 332; 47 U.S.C. 336; 47 U.S.C. 1302

Abstract: In this proceeding, the Commission adopted service rules for licensing of mobile and other uses for millimeter wave (mmW) bands. These high frequencies previously have been best suited for satellite or fixed microwave applications; however, recent technological breakthroughs have newly enabled advanced mobile services in these bands, notably including very high speed and low latency services. This action will help facilitate Fifth Generation mobile services and other mobile services. In developing service rules for mmW bands, the Commission will facilitate access to spectrum, develop a flexible spectrum policy, and encourage wireless innovation.

Timetable:

Action | Date | FR Cite
NPRM | 01/13/16 | 81 FR 1802
NPRM Comment Period End | 02/26/16
FNPRM | 08/24/16 | 81 FR 58269
Comment Period End | 09/30/16
FNPRM Reply Comment Period End | 10/31/16
R&O | 11/14/16 | 81 FR 79894
R&O | 01/02/18 | 83 FR 37
FNPRM | 01/02/18 | 83 FR 85
FNPRM Comment Period End | 01/23/18
R&O | 07/20/18 | 83 FR 34478
FNPRM | 07/20/18 | 83 FR 34520
FNPRM Comment Period End | 09/28/18
R&O | 02/05/19 | 84 FR 1618
R&O | 05/01/19 | 84 FR 18405
Next Action Undetermined

Regulatory Flexibility Analysis Required: Yes.

Agency Contact: John Schauble, Deputy Chief, Broadband Division, Federal Communications Commission, Wireless Telecommunications Bureau, 445 12th Street SW, Washington, DC 20554, Phone: 202 418-0797, Email: john.schauble@fcc.gov.

RIN: 3060-AK44

330. Transforming the 2.5 GHz Band

E.O. 13771 Designation: Independent agency.

Legal Authority: 47 U.S.C. 151 to 153; 47 U.S.C. 154(i); 47 U.S.C. 157; 47 U.S.C. 201; 47 U.S.C. 301 and 302; 47 U.S.C. 304; 47 U.S.C. 307 to 310; 47 U.S.C. 1302

Abstract: The 2.5 GHz band (2496-2690 MHz) constitutes the single largest band of contiguous spectrum below 3 GHz and has been identified as prime spectrum for next generation mobile operations, including 5G uses. Significant portions of this band, however, currently lie fallow across approximately one-half of the United States, primarily in rural areas. Moreover, access to the Educational Broadband Service (EBS) has been strictly limited since 1995, and current licensees are subject to a regulatory regime largely unchanged from the days when educational TV was the only use envisioned for this spectrum. The Commission proposes to allow more efficient and effective use of this spectrum band by providing greater flexibility to current EBS licensees as well as providing new opportunities for additional entities to obtain unused 2.5 GHz spectrum to facilitate improved access to next generation wireless broadband, including 5G. The Commission also seeks comment on additional approaches for transforming the 2.5 GHz band, including by moving directly to an auction for some or all of the spectrum.

Timetable:

Action | Date | FR Cite
NPRM | 06/07/18 | 83 FR 26396
NPRM Comment Period Extended | 06/21/18 | 83 FR 31515
NPRM Comment Period End | 09/07/18
Final Rule | 10/25/19 | 84 FR 57343
Next Action Undetermined

Regulatory Flexibility Analysis Required: Yes.

Agency Contact: John Schauble, Deputy Chief, Broadband Division, Federal Communications Commission, Wireless Telecommunications Bureau, 445 12th Street SW, Washington, DC 20554, Phone: 202 418-0797, Email: john.schauble@fcc.gov.

RIN: 3060-AK75

331. Amendment of the Commission's Rules To Promote Aviation Safety: WT Docket No. 19-140

E.O. 13771 Designation: Independent agency.

Legal Authority: 47 U.S.C. 154; 47 U.S.C. 303; 307(e)

Abstract: The Federal Communications Commission regulates the Aviation Radio Service, a family of services using dedicated spectrum to enhance the safety of aircraft in flight, facilitate the efficient movement of aircraft both in the air and on the ground, and otherwise ensure the reliability and effectiveness of aviation communications. Recent technological advances have prompted the Commission to open this new rulemaking proceeding to ensure the timely deployment and use of today's state-of-the-art safety-enhancing technologies. With this Notice of Proposed Rulemaking, the Commission proposes changes to its part 87 Aviation Radio Service rules to support the deployment of more advanced avionics technology, increase the efficient use of limited spectrum resources, and generally improve aviation safety.

Timetable:

Action | Date | FR Cite
NPRM | 07/02/19 | 84 FR 31542
NPRM Comment Period End | 09/03/19
NPRM Reply Comment Period End | 09/30/19
Next Action Undetermined

Regulatory Flexibility Analysis Required: Yes.

Agency Contact: Jeff Tobias, Attorney Advisor, Federal Communications Commission, Wireless Telecommunications Bureau, 445 12th Street SW, Washington, DC 20554, Phone: 202 418-1617, Email: jeff.tobias@fcc.gov.

RIN: 3060-AK92

332. • Establishing the Digital Opportunity Data Collection; WC Docket Nos. 19-195 and 11-10

E.O. 13771 Designation: Independent agency.

Legal Authority: 47 U.S.C. 35 to 39; 47 U.S.C. 154; 47 U.S.C. 211; 47 U.S.C. 219; 47 U.S.C. 220; 47 U.S.C. 402(b)2(B); Pub. L. 104-104; . . .

Abstract: In the Report and Order, the Federal Communications Commission (FCC), moving to better identify gaps in broadband coverage across the nation, initiated a new process for collecting fixed broadband data to better pinpoint where broadband service is lacking. The Report and Order concluded that there is a compelling and immediate need to develop more granular broadband deployment data to meet this goal and, accordingly, created the new Digital Opportunity Data Collection.

The Digital Opportunity Data Collection will collect geospatial broadband coverage maps from fixed broadband internet service providers of areas where they make fixed service available. This geospatial data will facilitate development of granular, high-quality fixed broadband deployment maps, which should improve the FCC's ability to target support for broadband expansion through the agency's Universal Service Fund programs. The Report and Order also adopts a process to collect public input on the accuracy of service providers' broadband maps, facilitated by a crowd-sourcing portal that will gather input from consumers as well as from state, local, and Tribal governments.

Timetable:

Action | Date | FR Cite
NPRM | 08/03/17 | 82 FR 40118
NPRM Comment Period End | 09/25/17
Final Action | 08/01/19 | 84 FR 43705
Next Action Undetermined

Regulatory Flexibility Analysis Required: Yes.

Agency Contact: Michael Ray, Attorney, Federal Communications Commission, 445 12th Street SW, Washington, DC 20554, Phone: 202 418-0357, Email: michael.ray@fcc.gov.

RIN: 3060-AK93

FEDERAL COMMUNICATIONS COMMISSION (FCC)

Wireless Telecommunications Bureau

Completed Actions

333. Service Rules for Advanced Wireless Services of the Middle Class Tax Relief and Job Creation Act of 2012 Related to the 1915-1920 MHz and 1995-2000 MHz Bands (WT Docket No. 12-357)

E.O. 13771 Designation: Independent agency.

Legal Authority: 47 U.S.C. 301 to 303; 47 U.S.C. 307 to 310

Abstract: The Commission proposes rules for the Advanced Wireless Services (AWS) H Block that would make available 10 megahertz of flexible use. The proposal would extend the widely deployed Personal Communications Services (PCS) band, which is used by the four national providers as well as regional and rural providers to offer mobile service across the Nation. The additional spectrum for mobile use will help ensure that the speed, capacity, and ubiquity of the Nation's wireless networks keeps pace with the skyrocketing demand for mobile services.

Today's action is a first step to implement the congressional directive in the Middle Class Tax Relief and Job Creation Act of 2012 (Spectrum Act) to grant new initial licenses for the 1915-1920 MHz and 1995-2000 MHz bands (the Lower H Block and Upper H Block, respectively) through a system of competitive bidding—unless doing so would cause harmful interference to commercial mobile service licenses in the 1930-1985 MHz (PCS downlink) band. The potential for harmful interference to the PCS downlink band relates only to the Lower H Block transmissions, and may be addressed by appropriate technical rules, including reduced power limits on H Block devices. We, therefore, propose to pair and license the Lower H Block and the Upper H Block for flexible use, including mobile broadband, aiming to assign the licenses through competitive bidding in 2013. In the event that we conclude that the Lower H Block cannot be used without causing harmful interference to PCS, we propose to license the Upper H Block for full power, and seek comment on appropriate use for the Lower H Block, including Unlicensed PCS.

Timetable:

Action | Date | FR Cite
NPRM | 01/08/13 | 78 FR 1166
NPRM Comment Period End | 03/06/13
R&O | 08/16/13 | 78 FR 50213
Order on Recon | 06/06/19 | 84 FR 26363

Regulatory Flexibility Analysis Required: Yes.

Agency Contact: Peter Daronco, Deputy Division Chief, Broadband Division, Federal Communications Commission, Wireless Telecommunications Bureau, 445 12th Street SW, Washington, DC 20554, Phone: 202 418-7235, Email: peter.daronco@fcc.gov.

RIN: 3060-AJ86

FEDERAL COMMUNICATIONS COMMISSION (FCC)

Wireline Competition Bureau

Long-Term Actions

334. Numbering Resource Optimization

E.O. 13771 Designation: Independent agency.

Legal Authority: 47 U.S.C. 151; 47 U.S.C. 154; 47 U.S.C. 201 et seq.; 47 U.S.C. 251(e)

Abstract: To slow the rate of numbering exhaust in the U.S. and prolong the life of the North American Numbering Plan, this proceeding considers and implements a number of strategies to ensure that telephone numbers are used efficiently, and that all carriers have the numbering resources they need to compete in the rapidly expanding telecommunications marketplace.

In 1999, the Commission released the Numbering Resource Optimization Notice of Proposed Rulemaking (Notice) in CC Docket 99-200. The Notice examined and sought comment on several administrative and technical measures aimed at improving the efficiency with which telecommunications numbering resources are used and allocated. It incorporated input from the North American Numbering Council (NANC), a Federal advisory committee, which advises the Commission on issues related to number administration.

In the Numbering Resource Optimization First Report and Order and Further Notice of Proposed Rulemaking (NRO First Report and Order), released on March 31, 2000, the Commission adopted a mandatory utilization data reporting requirement, a uniform set of categories of numbers for which carriers must report their utilization, and a utilization threshold framework to increase carrier accountability and incentives to use numbers efficiently. In addition, the Commission adopted a single system for allocating numbers in blocks of 1,000, rather than 10,000, wherever possible, and established a plan for national rollout of thousands-block number pooling. The Commission also adopted numbering resource reclamation requirements to ensure that unused numbers are returned to the North American Numbering Plan (NANP) inventory for assignment to other carriers. Also, to encourage better management of numbering resources, carriers are required, to the extent possible, to first assign numbering resources within thousands blocks (a form of sequential numbering).

In the NRO Second Report and Order, the Commission adopted a measure that requires all carriers to use at least 60 percent of their numbering resources before they may get additional numbers in a particular area. That 60 percent utilization threshold increases to 75 percent over the next three years. The Commission also established a 5-year term for the national pooling administrator and an auditing program to verify carrier compliance with the Commission's rules. Furthermore, the Commission declined to amend the existing Federal rules for area code relief or specify any new Federal guidelines for the implementation of area code relief. The Commission also declined to state a preference for either all-services overlays or geographic splits as a method of area code relief. Regarding mandatory nationwide 10-digit dialing, the Commission declined to adopt this measure at the present time. Furthermore, the Commission declined to mandate nationwide expansion of the “D digit” (the “N” of an NXX or central office code) to include zero or one, or to grant State commissions the authority to implement the expansion of the “D” digit as a numbering resource optimization measure presently.

In the NRO Third Report and Order, the Commission addressed national thousands-block number pooling administration issues, including declining to alter the implementation date for covered CMRS carriers to participate in pooling. The Commission also addressed Federal cost recovery for national thousands-block number pooling, and continued to require States to establish cost recovery mechanisms for costs incurred by carriers participating in pooling trials. The Commission reaffirmed the Months-To-Exhaust (MTE) requirement for carriers. The Commission declined to lower the utilization threshold established in the Second Report and Order, and declined to exempt pooling carriers from the utilization threshold. The Commission also established a safety valve mechanism to allow carriers that do not meet the utilization threshold in a given rate center to obtain additional numbering resources. In the NRO Third Report and Order, the Commission lifted the ban on technology-specific overlays (TSOs) and delegated authority to the Common Carrier Bureau, in consultation with the Wireless Telecommunications Bureau, to resolve any such petitions. Furthermore, the Commission found that carriers who violate its numbering requirements, or fail to cooperate with an auditor conducting either a “for cause” or random audit, should be denied numbering resources in certain instances. The Commission also reaffirmed the 180-day reservation period, declined to impose fees to extend the reservation period, and found that State commissions should be allowed password-protected access to the NANP Administrator database for data pertaining to NPAs located within their State. The measures adopted in the NRO orders will allow the Commission to monitor more closely the way numbering resources are used within the NANP, and will promote more efficient allocation and use of NANP resources by tying a carrier's ability to obtain numbering resources more closely to its actual need for numbers to serve its customers.

In NRO Third Order on Recon in CC Docket No. 99-200, Third Further Notice of Proposed Rulemaking in CC Docket No. 99-200, and Second Further Notice of Proposed Rulemaking in CC Docket No, 95-116, the Commission reversed its clarification that those requirements extend to all carriers in the largest 100 MSAs, regardless of whether they have received a request from another carrier to provide LNP. The Commission also sought comment on whether the Commission should again extend the LNP requirements to all carriers in the largest 100 MSAs, regardless of whether they receive a request to provide LNP. The Commission also sought comment on whether all carriers in the top 100 MSAs should be required to participate in thousands-block number pooling, regardless of whether they are required to be LNP capable. In addition, the Commission sought comment on whether all MSAs included in Combined Metropolitan Statistical Areas (CMSAs) on the Census Bureau's list of the largest 100 MSAs should be included on the Commission's list of the top 100 MSAs.

In the NRO Fourth Report and Order and Further Notice of Proposed Rulemaking, the Commission reaffirmed that carriers must deploy LNP in switches within the 100 largest Metropolitan Statistical Areas (MSAs) for which another carrier has made a specific request for the provision of LNP. The Commission delegated the authority to State commissions to require carriers operating within the largest 100 MSAs that have not received a specific request for LNP from another carrier to provide LNP, under certain circumstances and on a case-by-case basis. The Commission concluded that all carriers, except those specifically exempted, are required to participate in thousands-block number pooling in accordance with the national rollout schedule, regardless of whether they are required to provide LNP, including commercial mobile radio service (CMRS) providers that were required to deploy LNP as of November 24, 2003. The Commission specifically exempted from the pooling requirement rural telephone companies and Tier III CMRS providers that have not received a request to provide LNP. The Commission also exempted from the pooling requirement carriers that are the only service provider receiving numbering resources in a given rate center. Additionally, the Commission sought further comment on whether these exemptions should be expanded to include carriers where there are only two service providers receiving numbering resources in the rate center. Finally, the Commission reaffirmed that the 100 largest MSAs are identified in the 1990 U.S. Census reports, as well as those areas included on any subsequent U.S. Census report of the 100 largest MSAs.

In the NRO Order and Fifth Further Notice of Proposed Rulemaking, the Commission granted petitions for delegated authority to implement mandatory thousands-block pooling filed by the Public Service Commission of West Virginia, the Nebraska Public Service Commission, the Oklahoma Corporation Commission, the Michigan Public Service Commission, and the Missouri Public Service Commission. In granting these petitions, the Commission permitted these States to optimize numbering resources and further extend the life of the specific numbering plan areas. In the Further Notice of Proposed Rulemaking, the Commission sought comment on whether it should delegate authority to all States to implement mandatory thousands-block number pooling consistent with the parameters set forth in the NRO Order.

In its 2013 Notice of Proposed Rulemaking, the Commission proposed to allow interconnected Voice over Internet Protocol (VOIP) providers to obtain telephone numbers directly from the North American Numbering Plan Administrator and the Pooling Administrator, subject to certain requirements. The Commission also sought comment on a forward-looking approach to numbers for other types of providers and uses, including telematics and public safety, and the benefits and number exhaust risks of granting providers other than interconnected VoIP providers direct access.

In its 2015 Report and Order, the Commission established an authorization process to enable interconnected VoIP providers that choose to obtain access to North American Numbering Plan telephone numbers directly from the North American Numbering Plan Administrator and/or the Pooling Administrator (Numbering Administrators), rather than through intermediaries. The Order also set forth several conditions designed to minimize number exhaust and preserve the integrity of the numbering system. Specifically, the Commission required interconnected VoIP providers obtaining numbers to comply with the same requirements applicable to carriers seeking to obtain numbers. The requirements included any State requirements pursuant to numbering authority delegated to the States by the Commission, as well as industry guidelines and practices, among others. The Commission also required interconnected VoIP providers to comply with facilities readiness requirements adapted to this context, and with numbering utilization and optimization requirements. In addition, as conditions to requesting and obtaining numbers directly from the Numbering Administrators, the Commission required interconnected VoIP providers to (1) provide the relevant State commissions with regulatory and numbering contacts when requesting numbers in those States, (2) request numbers from the Numbering Administrators under their own unique OCN, (3) file any requests for numbers with the relevant State commissions at least 30 days prior to requesting numbers from the Numbering Administrators, and (4) provide customers with the opportunity to access all abbreviated dialing codes (N11 numbers) in use in a geographic area. Finally, the Order also modified Commission's rules in order to permit VoIP Positioning Center providers to obtain pseudo-Automatic Number Identification codes directly from the Numbering Administrators for purposes of providing E911 services.

Timetable:

Action | Date | FR Cite
NPRM | 06/17/99 | 64 FR 32471
R&O and FNPRM | 06/16/00 | 65 FR 37703
Second R&O and Second FNPRM | 02/08/01 | 66 FR 9528
Third R&O and Second Order on Recon | 02/12/02 | 67 FR 643
Third R&O on Recon and Third FNPRM | 04/05/02 | 67 FR 16347
Fourth R&O and Fourth NPRM | 07/21/03 | 68 FR 43003
Order and Fifth FNPRM | 03/15/06 | 71 FR 13393
Order | 06/19/13 | 78 FR 36679
NPRM & NOI | 06/19/13 | 78 FR 36725
R&O | 10/29/15 | 80 FR 66454
Next Action Undetermined

Regulatory Flexibility Analysis Required: Yes.

Agency Contact: Marilyn Jones, Senior Counsel, Federal Communications Commission, Wireline Competition Bureau, 445 12th Street SW, Washington, DC 20554, Phone: 202 418-2357, Fax: 202 418-2345, Email: marilyn.jones@fcc.gov.

RIN: 3060-AH80

335. Jurisdictional Separations

E.O. 13771 Designation: Independent agency.

Legal Authority: 47 U.S.C. 151; 47 U.S.C. 154(i) and 154(j); 47 U.S.C. 205; 47 U.S.C. 221(c); 47 U.S.C. 254; 47 U.S.C. 403; 47 U.S.C. 410

Abstract: Jurisdictional separations is the process, pursuant to part 36 of the Commission's rules, by which incumbent local exchange carriers apportion regulated costs between the intrastate and interstate jurisdictions. In 1997, the Commission initiated a proceeding seeking comment on the extent to which legislative changes, technological changes, and marketplace changes warrant comprehensive reform of the separations process. In 2001, the Commission adopted the Federal-State Joint Board on Jurisdictional Separations' Joint Board's recommendation to impose an interim freeze on the part 36 category relationships and jurisdictional cost allocation factors for a period of 5 years, pending comprehensive reform of the part 36 separations rules. In 2006, the Commission issued an Order and Further Notice of Proposed Rulemaking that extended the separations freeze for a period of 3 years and sought comment on comprehensive reform. In 2009, the Commission issued a Report and Order extending the separations freeze an additional year to June 2010. In 2010, the Commission issued a Report and Order extending the separations freeze for an additional year to June 2011. In 2011, the Commission adopted a Report and Order extending the separations freeze for an additional year to June 2012. In 2012, the Commission issued a Report and Order extending the separations freeze for an additional 2 years to June 2014. In 2014, the Commission issued a Report and Order extending the separations freeze for an additional 3 years to June 2017.

In 2016, the Commission issued a Report and Order extending the separations freeze for an additional 18 months until January 1, 2018. In 2017, the Joint Board issued a Recommended Decision recommending changes to the part 36 rules designed to harmonize them with the Commission's previous amendments to its part 32 accounting rules. In February 2018, the Commission issued a Notice of Proposed Rulemaking proposing amendments to part 36 consistent with the Joint Board's recommendations. In October 2018, the Commission issued a Report and Order adopting each of the Joint Board's recommendations and amending the Part 36 consistent with those recommendations. In July 2018, the Commission issued a Notice of Proposed Rulemaking proposing to extend the separations freeze for an additional 15 years and to provide rate-of-return carriers that had elected to freeze their category relationships a time limited opportunity to opt out of that freeze. In December 2018, the Commission issued a Report and Order extending the freeze for up to 6 years until December 31, 2024, and granting rate-of-return carriers that had elected to freeze their category relationships a one-time opportunity to opt out of that freeze.

Timetable:

Action | Date | FR Cite
NPRM | 11/05/97 | 62 FR 59842
NPRM Comment Period End | 12/10/97
Order | 06/21/01 | 66 FR 33202
Order and FNPRM | 05/26/06 | 71 FR 29882
Order and FNPRM Comment Period End | 08/22/06
R&O | 05/15/09 | 74 FR 23955
R&O | 05/25/10 | 75 FR 30301
R&O | 05/27/11 | 76 FR 30840
R&O | 05/23/12 | 77 FR 30410
R&O | 06/13/14 | 79 FR 36232
R&O | 06/02/17 | 82 FR 25535
Recommended Decision | 10/27/17
NPRM | 03/13/18 | 83 FR 10817
NPRM Comment Period End | 04/27/18
NPRM | 07/27/18 | 83 FR 35589
NPRM Comment Period End | 09/10/18
R&O | 12/11/18 | 83 FR 63581
R&O | 02/15/19 | 84 FR 4351
Announcement of OMB Approval | 03/01/19 | 84 FR 6977
Next Action Undetermined

Regulatory Flexibility Analysis Required: Yes.

Agency Contact: William Kehoe, Senior Counsel, PPD, Federal Communications Commission, Wireline Competition Bureau, 445 12th Street SW, Washington, DC 20554, Phone: 202 418-7122, Fax: 202 418-1413, Email: william.kehoe@fcc.gov.

RIN: 3060-AJ06

336. Development of Nationwide Broadband Data To Evaluate Reasonable and Timely Deployment of Advanced Services to All Americans

E.O. 13771 Designation: Independent agency.

Legal Authority: 15 U.S.C. 251; 47 U.S.C. 252; 47 U.S.C. 257; 47 U.S.C. 271; 47 U.S.C. 1302; 47 U.S.C. 160(b); 47 U.S.C. 161(a)(2)

Abstract: The Report and Order streamlined and reformed the Commission's Form 477 Data Program, which is the Commission's primary tool to collect data on broadband and telephone services.

Timetable:

Action | Date | FR Cite
NPRM | 05/16/07 | 72 FR 27519
Order | 07/02/08 | 73 FR 37861
Order | 10/15/08 | 73 FR 60997
NPRM | 02/08/11 | 76 FR 10827
Order | 06/27/13 | 78 FR 49126
NPRM | 08/24/17 | 82 FR 40118
NPRM Comment Period End | 09/25/17
NPRM Reply Comment Period End | 10/10/17
Next Action Undetermined

Regulatory Flexibility Analysis Required: Yes.

Agency Contact: Suzanne Mendez, Program Analyst, OEA, Federal Communications Commission, 445 12th Street SW, Washington, DC 20554, Phone: 202 418-0941, Email: suzanne.mendez@fcc.gov.

RIN: 3060-AJ15

337. Local Number Portability Porting Interval and Validation Requirements (WC Docket No. 07-244)

E.O. 13771 Designation: Independent agency.

Legal Authority: 47 U.S.C. 151; 47 U.S.C. 154(i); 47 U.S.C. 154(j); 47 U.S.C. 251; 47 U.S.C. 303(r)

Abstract: In 2007, the Commission released a Notice of Proposed Rulemaking in WC Docket No. 07-244. The Notice sought comment on whether the Commission should adopt rules specifying the length of the porting intervals or other details of the porting process. It also tentatively concluded that the Commission should adopt rules reducing the porting interval for wireline-to-wireline and intermodal simple port requests, specifically, to a 48-hour porting interval.

In the Local Number Portability Porting Interval and Validation Requirements First Report and Order and a further Notice of Proposed Rulemaking, released on May 13, 2009, the Commission reduced the porting interval for simple wireline and simple intermodal port requests, requiring all entities subject to its local number portability (LNP) rules to complete simple wireline-to-wireline and simple intermodal port requests within one business day. In a related further Notice of Proposed Rulemaking (NPRM), the Commission sought comment on what further steps, if any, the Commission should take to improve the process of changing providers.

In the LNP Standard Fields Order, released on May 20, 2010, the Commission adopted standardized data fields for simple wireline and intermodal ports. The Order also adopts the NANC's recommendations for porting process provisioning flows and for counting a business day in the context of number porting.

Timetable:

Action | Date | FR Cite
NPRM | 02/21/08 | 73 FR 9507
R&O and NPRM | 07/02/09 | 74 FR 31630
R&O | 06/22/10 | 75 FR 35305
Public Notice | 12/21/11 | 76 FR 79607
Public Notice | 06/06/13 | 78 FR 34015
R&O | 05/26/15 | 80 FR 29978
Next Action Undetermined

Regulatory Flexibility Analysis Required: Yes.

Agency Contact: Michelle Sclater, Attorney, Wireline Competition Bureau, Federal Communications Commission, 445 12th Street SW, Washington, DC 20554, Phone: 202 418-0388, Email: michelle.sclater@fcc.gov.

RIN: 3060-AJ32

338. Rural Call Completion; WC Docket No. 13-39

E.O. 13771 Designation: Independent agency.

Legal Authority: 47 U.S.C. 154; 47 U.S.C. 217; 47 U.S.C. 201; 47 U.S.C. 202; 47 U.S.C. 218; 47 U.S.C. 220; 47 U.S.C. 262; 47 U.S.C. 403(b)(2)(B); 47 U.S.C. 251(a); 47 U.S.C. 225; 47 U.S.C. 620; 47 U.S.C. 251; 47 U.S.C. 251(e); 47 U.S.C. 254(k); 47 U.S.C. 616; 47 U.S.C. 226; 47 U.S.C. 227; 47 U.S.C. 228; 47 U.S.C. 1401-1473

Abstract: The Third RCC Order began implementation of the Improving Rural Call Quality and Reliability Act of 2017 (RCC Act), by adopting rules designed to ensure the integrity of our nation's telephone network and prevent unjust or unreasonable discrimination among areas of the United States in the delivery of telephone service. In particular, the Third RCC Order adopted rules to establish a registry for intermediate providers entities that transmit, but do not originate or terminate, voice calls. The Order requires intermediate providers to register with the Commission before offering to transmit covered voice communications, and requires covered providers entities that select the initial long-distance route for a large number of lines to use only registered intermediate providers to transmit covered voice communications.

The Fourth RCC Order completed the Commission's implementation of the RCC Act by adopting service quality standards for intermediate providers, as well as an exception to those standards for intermediate providers that qualify for the covered provider safe harbor in our existing rules. The Order also set forth procedures to enforce our intermediate provider requirements. Finally, the Fourth RCC Order adopted provisions to sunset the rural call completion data recording and retention requirements adopted in the First RCC Order one year after the effective date of the new intermediate provider service quality standards.

Timetable:

Action | Date | FR Cite
NPRM | 04/12/13 | 78 FR 21891
Public Notice | 05/07/13 | 78 FR 26572
NPRM Comment Period End | 05/28/13
R&O and FNPRM | 12/17/13 | 78 FR 76218
PRA 60 Day Notice | 12/30/13 | 78 FR 79448
FNPRM Comment Period End | 02/18/14
PRA Comments Due | 03/11/14
Public Notice | 05/06/14 | 79 FR 25682
Order on Reconsideration | 12/10/14 | 79 FR 73227
Erratum | 01/08/15 | 80 FR 1007
Public Notice | 03/04/15 | 80 FR 11593
2nd FNPRM | 07/27/17 | 82 FR 34911
2nd FNPRM Comment Period End | 08/28/17
Reply Comment Period End | 09/25/17
2nd Order | 04/17/18 | 83 FR 21723
3rd FNPRM | 04/17/18 | 83 FR 21983
3rd FNPRM Comment Period End | 06/04/18
3rd FNPRM Reply Comment Period End | 06/19/18
3rd Order | 08/13/18 | 83 FR 47296
4th Order | 03/15/19 | 84 FR 25692
Next Action Undetermined

Regulatory Flexibility Analysis Required: Yes.

Agency Contact: Zachary Ross, Attorney Advisor, Competiton Policy Division, WCB, Federal Communications Commission, 445 12th Street SW, Washington, DC 20554, Phone: 202 418-1033, Email: zachary.ross@fcc.gov.

RIN: 3060-AJ89

339. Rates for Inmate Calling Services; WC Docket No. 12-375

E.O. 13771 Designation: Independent agency.

Legal Authority: 47 U.S.C. 151 and 152; 47 U.S.C. 154(i) and (j); 47 U.S.C. 225; 47 U.S.C. 276; 47 U.S.C. 303(r); 47 CFR 64; 47 U.S.C. 201

Abstract: In the Second Report and Order, the Federal Communications Commission adopted rule changes to ensure that rates for both interstate and intrastate inmate calling services (ICS) are fair, just, and reasonable limits on ancillary service charges imposed by ICS providers. In the Second Report and Order, the Commission set caps on all interstate and intrastate calling rates for ICS, established a tiered rate structure based on the size and type of facility being served, limited the types of ancillary services that ICS providers may charge for and capped the charges for permitted fees, banned flat-rate calling, facilitated access to ICS by people with disabilities by requiring providers to offer free or steeply discounted rates for calls using TTY, and imposed reporting and certification requirements to facilitate continued oversight of the ICS market. In the Third Further Notice portion of the item, the Commission sought comment on ways to promote competition for ICS, video visitation, and rates for international calls, and considered an array of solutions to further address areas of concern in the ICS industry. In an Order on Reconsideration, the Commission amended its rate caps and the definition of “mandatory tax or mandatory fee.”

On June 13, 2017, the D.C. Circuit vacated the rate caps adopted in the Second Report and Order, as well as reporting requirements related to video visitation. The court held that the Commission lacked jurisdiction over intrastate ICS calls and that the rate caps the Commission adopted for interstate calls were arbitrary and capricious. The court also remanded the Commission's caps on ancillary fees. On September 26, 2017, the court denied a petition for rehearing en banc. On December 21, 2017, the court issued two separate orders: One vacating the 2016 Order on Reconsideration insofar as it purports to set rate caps on inmate calling services, and one dismissing as moot challenges to the Commission's First Report and Order on ICS.

On February 4, 2020, the Commission's Wireline Competition Bureau released a Public Notice seeking to refresh the record on ancillary service charges imposed in connection with inmate calling services.

Timetable:

Action | Date | FR Cite
NPRM | 01/22/13 | 78 FR 4369
FNPRM | 11/13/13 | 78 FR 68005
R&O | 11/13/13 | 78 FR 67956
FNPRM Comment Period End | 12/20/13
Announcement of Effective Date | 06/20/14 | 79 FR 33709
2nd FNPRM | 11/21/14 | 79 FR 69682
2nd FNPRM Comment Period End | 01/15/15
2nd FNPRM Reply Comment Period End | 01/20/15
3rd FNPRM | 12/18/15 | 80 FR 79020
2nd R&O | 12/18/15 | 80 FR 79136
3rd FNPRM Comment Period End | 01/19/16
3rd FNPRM Reply Comment Period End | 02/08/16
Order on Reconsideration | 09/12/16 | 81 FR 62818
Announcement of OMB Approval | 03/01/17 | 82 FR 12182
Correction to Announcement of OMB Approval | 03/08/17 | 82 FR 12922
Announcement of OMB Approval | 02/06/20 | 85 FR 6947
Public Notice | 02/19/20 | 85 FR 9444
Public Notice Comment Period End | 03/20/20
Public Notice Reply Comment Period End | 04/06/20
Next Action Undetermined

Regulatory Flexibility Analysis Required: Yes.

Agency Contact: William Kehoe, Senior Counsel, PPD, Federal Communications Commission, Wireline Competition Bureau, 445 12th Street SW, Washington, DC 20554, Phone: 202 418-7122, Fax: 202 418-1413, Email: william.kehoe@fcc.gov.

RIN: 3060-AK08

340. Comprehensive Review of the Part 32 Uniform System of Accounts (WC Docket No. 14-130)

E.O. 13771 Designation: Independent agency.

Legal Authority: 47 U.S.C. 151; 47 U.S.C. 154(i); 47 U.S.C. 201(b); 47 U.S.C. 219 and 220

Abstract: The Commission initiates a rulemaking proceeding to review the Uniform System of Accounts (USOA) to consider ways to minimize the compliance burdens on incumbent local exchange carriers while ensuring that the Agency retains access to the information it needs to fulfill its regulatory duties. In light of the Commission's actions in areas of price cap regulation, universal service reform, and intercarrier compensation reform, the Commission stated that it is likely appropriate to streamline the existing rules even though those reforms may not have eliminated the need for accounting data for some purposes. The Commission's analysis and proposals are divided into three parts. First, the Commission proposes to streamline the USOA accounting rules while preserving their existing structure. Second, the Commission seeks more focused comment on the accounting requirements needed for price cap carriers to address our statutory and regulatory obligations. Third, the Commission seeks comment on several related issues, including state requirements, rate effects, implementation, continuing property records, and legal authority.

On February 23, 2017, the Commission adopted a Report and Order that revised the part 32 USOA to substantially reduce accounting burdens for both price cap and rate-of-return carriers. First, the Order streamlines the USOA for all carriers. In addition, the USOA will be aligned more closely with generally accepted accounting principles, or GAAP. Second, the Order allows price cap carriers to use GAAP for all regulatory accounting purposes as long as they comply with targeted accounting rules, which are designed to mitigate any impact on pole attachment rates. Alternatively, price cap carriers can elect to use GAAP accounting for all purposes other than those associated with pole attachment rates and continue to use the part 32 accounts for pole attachment rates for up to 12 years. Third, the Order addresses several miscellaneous issues, including referral to the Federal-State Joint Board on Separations the issue of examining jurisdictional separations rules in light of the reforms adopted to part 32.

Timetable:

Action | Date | FR Cite
NPRM | 09/15/14 | 79 FR 54942
NPRM Comment Period End | 11/14/14
NPRM Reply Comment Period End | 12/15/14
R&O | 04/04/17 | 82 FR 20833
Next Action Undetermined

Regulatory Flexibility Analysis Required: Yes.

Agency Contact: Robin Cohn, Attorney Advisor, Federal Communications Commission, 445 12th Street SW, Washington, DC 20554, Phone: 202 418-2747, Email: robin.cohn@fcc.gov.

RIN: 3060-AK20

341. Restoring Internet Freedom (WC Docket No. 17-108); Protecting and Promoting the Open Internet (GN Docket No. 14-28)

E.O. 13771 Designation: Independent agency.

Legal Authority: 47 U.S.C. 151; 47 U.S.C. 154(i) and (j); 47 U.S.C. 201(b)

Abstract: In December 2017, the Commission adopted the Restoring Internet Freedom Declaratory Ruling, Report and Order, and Order (Restoring Internet Freedom Order), which restored the light-touch regulatory framework under which the internet had grown and thrived for decades by classifying broadband Internet access service as an information service. The Restoring Internet Freedom Order ends title II regulation of the internet and returns broadband internet access service to its long-standing classification as an information service; reinstates the determination that mobile broadband internet access service is not a commercial mobile service and returns it to its original classification as a private mobile service; finds that transparency, Internet Service Providers (ISPs) economic incentives, and antitrust and consumer protection laws will protect the openness of the internet, and that title II regulation is unnecessary to do so; and adopts a transparency rule similar to that in the 2010 Open Internet Order, requiring disclosure of network management practices, performance characteristics, and commercial terms of service. Additionally, the transparency rule requires ISPs to disclose any blocking, throttling, paid prioritization, or affiliate prioritization, and eliminates the internet conduct standard and the bright-line conduct rules set forth in the 2015 title II Order.

Timetable:

Action | Date | FR Cite
NPRM | 07/01/14 | 79 FR 37448
NPRM Comment Period End | 07/18/14
NPRM Reply Comment Period End | 09/15/14
R&O on Remand, Declaratory Ruling, and Order | 04/13/15 | 80 FR 19737
NPRM | 06/02/17 | 82 FR 25568
NPRM Comment Period End | 07/03/17
Declaratory Ruling, R&O, and Order | 02/22/18 | 83 FR 7852
Next Action Undetermined

Regulatory Flexibility Analysis Required: Yes.

Agency Contact: Melissa Kirkel, Attorney Advisor, Federal Communications Commission, Wireline Competition Bureau, 445 12th Street SW, Washington, DC 20554, Phone: 202 418-7958, Fax: 202 418-1413, Email: melissa.kirkel@fcc.gov.

RIN: 3060-AK21

342. Technology Transitions; GN Docket No. 13-5, WC Docket No. 05-25; Accelerating Wireline Broadband Deployment by Removing Barriers to Infrastructure Investment; WC Docket No. 17-84

E.O. 13771 Designation: Independent agency.

Legal Authority: 47 U.S.C. 214; 47 U.S.C. 251

Abstract: On April 20, 2017, the Commission adopted a Notice of Proposed Rulemaking, Notice of Inquiry, and Request for Comment (Wireline Infrastructure NPRM, NOI, and RFC) seeking input on a number of actions designed to accelerate: (1) The deployment of next-generation networks and services by removing barriers to infrastructure investment at the Federal, State, and local level; (2) the transition from legacy copper networks and services to next-generation fiber-based networks and services; and (3) the reduction of Commission regulations that raise costs and slow, rather than facilitate, broadband deployment.

On November 16, 2017, the Commission adopted a Report and Order (R&O), Declaratory Ruling, and Further Notice of Proposed Rulemaking (Wireline Infrastructure Order) that takes a number of actions and seeks comment on further actions designed to accelerate the deployment of next-generation networks and services through removing barriers to infrastructure investment.

The Wireline Infrastructure Order took a number of actions. First, the Report and Order revised the pole attachment rules to reduce costs for attachers, reforms the pole access complaint procedures to settle access disputes more swiftly, and increases access to infrastructure for certain types of broadband providers. Second, the Report and Order revised the section 214(a) discontinuance rules and the network change notification rules, including those applicable to copper retirements, to expedite the process for carriers seeking to replace legacy network infrastructure and legacy services with advanced broadband networks and innovative new services. Third, the Report and Order reversed a 2015 ruling that discontinuance authority is required for solely wholesale services to carrier-customers. Fourth, the Declaratory Ruling abandoned the 2014 “functional test” interpretation of when section 214 discontinuance applications are required, bringing added clarity to the section 214(a) discontinuance process for carriers and consumers alike. Finally, the Further Notice of Proposed Rulemaking sought comment on additional potential pole attachment reforms, reforms to the network change disclosure and section 214(a) discontinuance processes, and ways to facilitate rebuilding networks impacted by natural disasters.

On June 7, 2018, the Commission adopted a Second Report and Order (Wireline Infrastructure Second Report and Order) taking further actions designed to expedite the transition from legacy networks and services to next generation networks and advanced services that benefit the American public and to promote broadband deployment by further streamlining the section 214(a) discontinuance rules, network change disclosure processes, and part 68 customer notification process.

The Wireline Infrastructure NPRM, NOI, and RFC sought comment on additional issues not addressed in the November Wireline Infrastructure Order or the June Wireline Infrastructure Second Report and Order. It sought comment on changes to the Commission's pole attachment rules to: (1) Streamline the timeframe for gaining access to utility poles; (2) reduce charges paid by attachers for work done to make a pole ready for new attachments; and (3) establish a formula for computing the maximum pole attachment rate that may be imposed on an incumbent LEC.

The Wireline Infrastructure NPRM, NOI, and RFC also sought comment on whether the Commission should enact rules, consistent with its authority under section 253 of the Act, to promote the deployment of broadband infrastructure by preempting State and local laws that inhibit broadband deployment. It also sought comment on whether there are State laws governing the maintenance or retirement of copper facilities that serve as a barrier to deploying next-generation technologies and services that the Commission might seek to preempt.

Previously, in November 2014, the Commission adopted a Notice of Proposed Rulemaking and Declaratory Ruling that: (1) Proposed new backup power rules; (2) proposed new or revised rules for copper retirements and service discontinuances; and (3) adopted a functional test in determining what constitutes a service for purposes of section 214(a) discontinuance review. In August 2015, the Commission adopted a Report and Order, Order on Reconsideration, and Further Notice of Proposed Rulemaking that: (i) Lengthened and revised the copper retirement process; (ii) determined that a carrier must obtain Commission approval before discontinuing a service used as a wholesale input if the carrier's actions will discontinue service to a carrier-customer's retail end users; (iii) adopted an interim rule requiring incumbent LECs that seek to discontinue certain TDM-based wholesale services to commit to certain rates, terms, and conditions; (iv) proposed further revisions to the copper retirement discontinuance process; and (v) upheld the November 2014 Declaratory Ruling. In July 2016, the Commission adopted a Second Report and Order, Declaratory Ruling, and Order on Reconsideration that: (i) Adopted a new test for obtaining streamlined treatment when carriers seek Commission authorization to discontinue legacy services in favor of services based on newer technologies; (ii) set forth consumer education requirements for carriers seeking to discontinue legacy services in favor of services based on newer technologies; (iii) allowed notice to customers of discontinuance applications by email; (iv) required carriers to provide notice of discontinuance applications to Tribal entities; (v) made a technical rule change to create a new title for copper retirement notices and certifications; and (vi) harmonized the timeline for competitive LEC discontinuances caused by incumbent LEC network changes.

On August 2, 2018, the Commission adopted a Third Report and Order and Declaratory Ruling (Wireline Infrastructure Third Report and Order) establishing a new framework for the vast majority of pole attachments governed by Federal law by instituting a one-touch make-ready regime, in which a new attacher may elect to perform all simple work to prepare a pole for new wireline attachments in the communications space. This new framework includes safeguards to promote coordination among parties and ensures that new attachers perform work safely and reliably. The Commission retained its multi-party pole attachment process for attachments that are complex or above the communications space of a pole, but made significant modifications to speed deployment, promote accurate billing, expand the use of self-help for new attachers when attachment deadlines are missed, and reduce the likelihood of coordination failures that lead to unwarranted delays. The Commission also improved its pole attachment rules by codifying and redefining Commission precedent that requires utilities to allow attachers to overlash existing wires, thus maximizing the usable space on the pole; eliminating outdated disparities between the pole attachment rates that incumbent carriers must pay compared to other similarly-situated cable and telecommunications attachers; and clarifying that the Commission will preempt, on an expedited case-by-case basis, State and local laws that inhibit the rebuilding or restoration of broadband infrastructure after a disaster. The Commission also adopted a Declaratory Ruling that interpreted section 253(a) of the Communications Act to prohibit State and local express and de facto moratoria on the deployment of telecommunications services or facilities and directed the Wireline Competition and Wireless Telecommunications Bureaus to act promptly on petitions challenging specific alleged moratoria.

Timetable:

Action | Date | FR Cite
NPRM | 01/06/15 | 80 FR 450
NPRM Comment Period End | 02/05/15
NPRM Reply Comment Period End | 03/09/15
FNPRM | 09/25/15 | 80 FR 57768
R&O | 09/25/15 | 80 FR 57768
FNPRM Comment Period End | 10/26/15
FNPRM Reply Comment Period End | 11/24/15
2nd R&O | 09/12/16 | 81 FR 62632
NPRM | 05/16/17 | 82 FR 224533
NPRM Comment Period End | 06/15/17
NPRM Reply Comment Period End | 07/17/17
R&O | 12/28/17 | 82 FR 61520
FNPRM Comment Period End | 01/17/18
FNPRM Reply Comment Period End | 02/16/18
2nd R&O | 07/09/18 | 83 FR 31659
3rd R&O | 09/14/18 | 83 FR 46812
Next Action Undetermined

Regulatory Flexibility Analysis Required: Yes.

Agency Contact: Michele Berlove, Special Counsel, Competition Policy Div., WCB, Federal Communications Commission, 445 12th Street SW, Washington, DC 20554, Phone: 202 418-1477, Email: michele.berlove@fcc.gov.

RIN: 3060-AK32

343. Implementation of the Universal Service Portions of the 1996 Telecommunications Act

E.O. 13771 Designation: Independent agency.

Legal Authority: 47 U.S.C. 151 et seq.

Abstract: The Telecommunications Act of 1996 expanded the traditional goal of universal service to include increased access to both telecommunications and advanced services such as high-speed internet for all consumers at just, reasonable and affordable rates. The Act established principles for universal service that specifically focused on increasing access to evolving services for consumers living in rural and insular areas, and for consumers with low-incomes. Additional principles called for increased access to high-speed internet in the nation's schools, libraries, and rural healthcare facilities. The FCC established four programs within the Universal Service Fund to implement the statute: Connect America Fund (formally known as High-Cost Support) for rural areas; Lifeline (for low-income consumers), including initiatives to expand phone service for Native Americans; Schools and Libraries (E-rate); and Rural Healthcare.

The Universal Service Fund is paid for by contributions from telecommunications carriers, including wireline and wireless companies, and interconnected Voice over Internet Protocol (VoIP) providers, including cable companies that provide voice service, based on an assessment on their interstate and international end-user revenues. The Universal Service Administrative Company, or USAC, administers the four programs and collects monies for the Universal Service Fund under the direction of the FCC.

On April 19, 2018, the Commission decided the legacy support issue arising from the ongoing reform and modernization of the universal service fund and intercarrier compensation systems.

On May 29, 2018, the Commission approved additional funding to restore communications networks in Puerto Rico and the Virgin Islands and sought comment on almost $900 million in long-term funding for network expansion.

On June 25, 2018, the Commission addressed the current funding shortfall in the Rural Healthcare Program by raising the annual program budget cap to $571 million.

On January 31, 2019, the Commission temporarily waived the E-Rate amortization requirement and proposed to eliminate the requirement.

On July 11, 2019, the Commission brought Telehealth services to low-income patients, veterans and areas lacking adequate health care.

On August 2, 2019, the Commission targeted areas with at least 4 million rural homes, small businesses that lacked modern broadband service.

On August 20, 2019, the Commission increased transparency, predictability, and efficiency of RHC program funding decisions.

On September 30, 2019, the Commission investment was boosted high-speed internet access on islands.

On October 31, 2019, the Commission took steps to enforce quality standards for Rural Broadband Networks and provided additional flexibility to reduce burden on companies.

On November 15, 2019, the Commission further Strengthened Lifeline Against Waste, Fraud, and Abuse.

On December 3, 2019, the Commission acted to speed the deployment of Wi-Fi in schools and Libraries.

Timetable:

Action | Date | FR Cite
R&O and FNPRM | 01/13/17 | 82 FR 4275
NPRM Comment Period End | 02/13/17
NPRM Reply Comment Period End | 02/27/17
R&O and Order on Recon | 03/21/17 | 82 FR 14466
Order on Recon | 05/19/17 | 82 FR 22901
Order on Recon | 06/08/17 | 82 FR 26653
Memorandum, Opinion & Order | 06/21/17 | 82 FR 228224
NPRM | 07/30/19 | 84 FR 36865
NPRM | 08/21/19 | 84 FR 43543
R&O and Order on Recon | 11/07/19 | 84 FR 59937
Order on Recon | 12/09/19 | 84 FR 67220
R&O | 12/20/19 | 84 FR 70026
R&O | 12/27/19 | 84 FR 71308
R&O | 01/17/20 | 85 FR 3044
Next Action Undetermined

Regulatory Flexibility Analysis Required: Yes.

Agency Contact: Nakesha Woodward, Program Support Assistant, Federal Communications Commission, 445 12th Street SW, Washington, DC 20554, Phone: 202 418-1502, Email: kesha.woodward@fcc.gov.

RIN: 3060-AK57

344. Toll Free Assignment Modernization and Toll Free Service Access Codes: WC Docket No. 17-192, CC Docket No. 95-155

E.O. 13771 Designation: Independent agency.

Legal Authority: 47 U.S.C. 151; 47 U.S.C. 154(i); 47 U.S.C. 201(b); 47 U.S.C. 251(e)(1)

Abstract: In this Report and Order (Order), the Federal Communications Commission (FCC) initiates an auction to distribute certain toll free numbers. The numbers to be auctioned will be in the new 833 toll free code for which there have been multiple, competing requests.

By using an auction, the FCC will ensure that sought-after numbers are awarded to the parties that value them most. In addition, the FCC will reserve certain 833 numbers for distribution to government and non-profit entities that request them for public health and safety purposes. The FCC will study the results of the auction to determine how to best use the mechanism to distribute toll-free numbers equitably and efficiently in the future as well. Revenues from the auction will be used to defray the cost of toll-free numbering administration, reducing the cost of numbering for all users. The Order establishing the toll-free number auction will also authorize and accommodate the use of a secondary market for numbers awarded at auction to further distribute these numbers to the entities that value them most. The Order also adopted several definitional and technical updates to improve clarity and flexibility in toll-free number assignment.

The Commission sought comment and then adopted auctions procedures and deadlines on August 2, 2019. Bidding for the auction occurred on December 17, 2019, and Somas issued an announcement of the winning bidders on December 20, 2019. On December 16, 2019, to facilitate the preparation of its study of the auction, the Bureau charged the North American Numbering Council, via its Toll Free Access Modernization Working Group, to issue a report evaluating various aspects of the 833 Auction, and recommending improvements for any future toll free number auctions.

Timetable:

Action | Date | FR Cite
NPRM | 10/13/17 | 82 FR 47669
NPRM Comment Period End | 11/13/17
Final Rule | 10/23/18 | 83 FR 53377
Next Action Undetermined

Regulatory Flexibility Analysis Required: Yes.

Agency Contact: Matthew Collins, Attorney Advisor, Federal Communications Commission, 445 12th Street SW, Washington, DC 20554, Phone: 202 418-7141, Email: matthew.collins@fcc.gov.

RIN: 3060-AK91

345. • Call Authentication Trust Anchor

E.O. 13771 Designation: Independent agency.

Legal Authority: 47 U.S.C. 201; 47 U.S.C. 251

Abstract: On July 13, 2017, the Commission issued a Notice of Inquiry that sought comment on a number of issues involving voice service providers adopting a call authentication system. (WC Docket No. 17-97) First, the Commission sought comment on how a call authentication system would be governed, including: (1) The Commission's role in requiring, encouraging, or enabling a call authentication system; (2) who or what entities should set the rules and procedures for the system; and (3) what criteria those entities should set for who may be qualified to issue certificates and serve as an authenticating telephone service provider. The Commission also sought comment on technical implementation and operation of the authentication system, including: (1) How the service providers or telephone numbers to be authenticated should be enrolled in the system; and (2) what alternatives might exist for certain specific technical and structural proposals of the system. The Commission further sought comment on the scope and policy effects of a call authentication system, including: (1) Whether and how the system can address call authentication issues on legacy systems; (2) how a U.S.-based call authentication system might integrate with the systems of other countries; (3) other policy effects of a call authentication system, including effects upon privacy and security; and (4) the potential costs and benefits of the system, including how it may be funded.

In a November 5, 2018 Press Release, the FCC Chairman called on voice service providers to deploy the SHAKEN/STIR call authentication standards into their networks over the next year. On June 6, 2019, the Commission adopted a Notice of Proposed Rulemaking that proposed requiring voice service providers to implement the SHAKEN/STIR caller ID authentication framework, if major voice service providers fail to do so by the end of 2019. (WC Docket No. 17-97)

In December 2019, Congress enacted the Pallone-Thune Telephone Robocall Abuse Criminal Enforcement and Deterrence (TRACED) Act. Along with numerous other provisions directed at addressing robocalls, the TRACED Act directs the Commission to require all voice service providers to implement STIR/SHAKEN in the IP portions of their networks, and to implement an effective caller ID authentication framework in the non-IP portions of their networks. The TRACED Act further creates processes by which voice service providers may be exempt from this mandate if the Commission determines they have achieved certain implementation benchmarks, and by which voice service providers may be granted a delay in compliance based on a finding of undue hardship because of burdens or barriers to implementation or based on a delay in development of a caller ID authentication protocol for calls delivered over non-IP networks.

Timetable:

Action | Date | FR Cite
NOI | 07/14/17
NPRM | 06/24/19 | 84 FR 29478
NPRM Comment Period End | 08/23/19
Next Action Undetermined

Regulatory Flexibility Analysis Required: Yes.

Agency Contact: Matthew Collins, Attorney Advisor, Federal Communications Commission, 445 12th Street SW, Washington, DC 20554, Phone: 202 418-7141, Email: matthew.collins@fcc.gov.

RIN: 3060-AL00

346. • Implementation of the National Suicide Improvement Act of 2018

E.O. 13771 Designation: Independent agency.

Legal Authority: 47 U.S.C. 201; 47 U.S.C. 251

Abstract: On August 14, 2018, Congress passed the National Suicide Hotline Improvement Act (Act). Public Law 115-233, 132 Stat. 2424 (2018). The purpose of the Act was to study and report on the feasibility of designating a 3-digit dialing code to be used for a national suicide prevention and mental health crisis hotline system by considering each of the current N11 designations. The Act directed the Commission to: (1) Conduct a study that examines the feasibility of designating a simple, easy-to-remember, 3-digit dialing code to be used for a national suicide prevention and mental health crisis hotline system; and (2) analyze how well the current National Suicide Prevention Lifeline is working to address the needs of veterans. The Act also directed the Commission to coordinate with the Department of Health and Human Services' Substance Abuse and Mental Health Services Administration (SAMHSA), the Secretary of Veterans Affairs, and the North American Numbering Council (NANC) in conducting the study, and to produce a report on the study by August 14, 2019.

On August 14, 2019, the Wireline Competition Bureau and Office of Economics and Analytics submitted its report to Congress recommending that: (1) A 3-digit dialing code be used for a national suicide prevention and mental health crisis hotline system; and (2) the Commission should initiate a rulemaking proceeding to consider designating 988 as the 3-digit code.

On December 12, 2019, the Commission released a notice of proposed rulemaking (NPRM) proposing to designate 988 as a new, nationwide, 3-digit dialing code for a suicide prevention and mental health crisis hotline. WC Docket No. 18-336. The NPRM proposes that calls made to 988 be directed to the existing National Suicide Prevention Lifeline, which is made up of an expansive network of over 170 crisis centers located across the United States, and to the Veterans Crisis Line. The NPRM also proposes to require all telecommunications carriers and interconnected VoIP service providers to make, within 18 months, any changes necessary to ensure that users can dial 988 to reach the National Suicide Prevention Lifeline and Veterans Crisis Line.

Timetable:

Action | Date | FR Cite
NPRM | 01/15/20 | 85 FR 2359
NPRM Comment Period End | 03/16/20
Next Action Undetermined

Regulatory Flexibility Analysis Required: Yes.

Agency Contact: Michelle Sclater, Attorney, Wireline Competition Bureau, Federal Communications Commission, 445 12th Street SW, Washington, DC 20554, Phone: 202 418-0388, Email: michelle.sclater@fcc.gov.

RIN: 3060-AL01

347. • Modernizing Unbundling and Resale Requirements in an Era of Next-Generation Networks and Services

E.O. 13771 Designation: Independent agency.

Legal Authority: 47 U.S.C. 10; 47 U.S.C. 251

Abstract: On November 22, 2019, the Commission adopted a Notice of Proposed Rulemaking (NPRM) seeking comment on proposals to update the unbundling and avoided-cost resale obligations stemming from the 1996 Act and applicable only to incumbent LECs. Many of these obligations appear to no longer be necessary in many geographic areas due to vigorous competition for mass market broadband services in urban areas and numerous intermodal voice capabilities and services. But recognizing that rural areas pose special challenges for broadband deployment, the NPRM does not propose any change to unbundling requirements for broadband-capable loops in rural areas. The NPRM seeks to promote the Commission's efforts to reduce unnecessary and outdated regulatory burdens that appear to discourage the deployment of next-generation networks, delay the IP transition, unnecessarily burden incumbent LECs with no similar obligations placed on their competitors, and no longer benefit consumers or serve the purpose for which they were intended.

Timetable:

Action | Date | FR Cite
NPRM | 01/06/20 | 85 FR 472
NPRM Comment Period End | 03/06/20
Next Action Undetermined

Regulatory Flexibility Analysis Required: Yes.

Agency Contact: Michele Berlove, Special Counsel, Competition Policy Div., WCB, Federal Communications Commission, 445 12th Street SW, Washington, DC 20554, Phone: 202 418-1477, Email: michele.berlove@fcc.gov.

RIN: 3060-AL02

348. • Deregulation and Detariffing of Retail Access Charges

E.O. 13771 Designation: Independent agency.

Legal Authority: 47 U.S.C. 151; 47 U.S.C. 154(i); 47 U.S.C. 160; 47 U.S.C. 201 to 203; 47 U.S.C. 214; 47 U.S.C. 225; 47 U.S.C. 251; 47 U.S.C. 254; 47 U.S.C. 303(r); 47 U.S.C. 616

Abstract: The NPRM proposes to deregulate and detariff Retail Access Charges, which represent the last handful of interstate end-user charges that remain subject to regulation. The Notice also proposes to prohibit all carriers from separately listing Retail Access Charges on customers' bills. Because of the relationship between these Retail Access Charges and the Federal Universal Service Fund and other federal programs, this Notice also proposes and seeks comment on ways to prevent any adverse impacts of the proposals on these programs.

Timetable:

Action | Date | FR Cite
NPRM | 05/00/00

Regulatory Flexibility Analysis Required: Yes.

Agency Contact: Victoria Goldberg, Attorney-Advisor, Federal Communications Commission, Wireline Competition Bureau, 445 12th Street SW, Washington, DC 20554, Phone: 202 418-7353, Email: victoria.goldberg@fcc.gov.

RIN: 3060-AL03

[FR Doc. 2020-16769 Filed 8-25-20; 8:45 am]

BILLING CODE 6712-01-P